DEPARTMENT OF HOUSING AND URBAN DEVELOPMENT

[Docket No. FR-4809-N-37]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Albert F. Lowas, Jr., Air Force Real Property Agency, 1700 North Moore St., Suite 2300, Arlington, VA 22209-2802; (703) 696-5501; ARMY: Ms. Julie Jones-Conte, Department of the Army, Office of the Assistant Chief of Staff for Installation Management, Attn: DAIM-ME, Room 1E677, 600 Army Pentagon, Washington, DC 20310-0600; (703) 692-9223; COAST GUARD: United States Coast Guard, Attn: Teresa Sheinberg, Room 6109, 2100 Second Street, SW, Washington DC 20593-0001; (202) 267-6142; ENERGY: Mr. Tom Knox, Department of Energy, Office of Engineering & Construction Management, CR-80, Washington, DC 20585; (202) 586-8715; GSA: Mr. Brian K. Polly, Assistant Commissioner, General Services Administration, Office of Property Disposal, 18th and F Streets, NW, Washington, DC 20405; (202) 501-0052; INTERIOR: Ms. Linda Tribby, Acquisition & Property Management, Department of the Interior, 1849 C Street, NW, MS5512, Washington, DC 20240; (202) 219-0728; NAVY: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: September 4, 2003.
John D. Garrity,
Director, Office of Special Needs Assistance Programs.

Title V, Federal Surplus Property Program Federal Register Report for 9/12/03

Suitable/Available Properties

Buildings (by State)

Alaska

Bldg. 6165

Elmendorf AFB

Elmendorf AFB Co: AK 99506—

Landholding Agency: Air Force

Property Number: 18200230007

Status: Unutilized

Comment: 15970 sq. ft., possible asbestos/lead paint, most recent use—barracks, off-site use only

Bldg. 6173

Elmendorf AFB

Elmendorf Co: AK 99506-

Landholding Agency: Air Force

Property Number: 18200230008

Status: Unutilized

Comment: 16290 sq. ft., possible asbestos/lead paint, most recent use—barracks, off-site use only

Bldg. 7525

Elmendorf AFB

Elmendorf AFB Co: AK 99506-

Landholding Agency: Air Force

Property Number: 18200230009

Status: Unutilized

Comment: 26,226 sq. ft., need rehab, possible asbestos/lead paint, most recent use—dormitory, off-site use only

California

Calexico Border Patrol Station

813 Andrade Ave.

Calexico Co: CA 92231-

Landholding Agency: GSA

Property Number: 54200320012

Status: Excess

Comment: 5600 sq. ft. main bldg., and 6845 sq. ft. parking/garage structure, need repairs, GSA Number: 9-J-CA-1539

Bldg. 199

Naval Postgraduate School

Monterey Co: CA 93943-

Landholding Agency: Navy

Property Number: 77200310003

Status: Excess

Comment: 2186 sq. ft., gold pro shop, presence of asbestos/lead paint

Hawaii

Bldg. 849

Bellows AFS

Bellows AFS Co: HI

Landholding Agency: Air Force

Property Number: 18200330008

Status: Unutilized

Comment: 462 sq. ft., concrete storage facility

Bldg. 442, Naval Station

Ford Island

Pearl Harbor Co: Honolulu HI 96860-

Landholding Agency: Navy

Property Number: 77199630088

Status: Excess

Comment: 192 sq. ft., most recent use—storage, off-site use only

Bldg. S180

Naval Station, Ford Island

Pearl Harbor Co: Honolulu HI 96860-

Landholding Agency: Navy

Property Number: 77199640039

Status: Unutilized

Comment: 3412 sq. ft., 2-story, most recent use—bomb shelter, off-site use only, relocation may not be feasible

Bldg. S181

Naval Station, Ford Island

Pearl Harbor Co: Honolulu HI 96860-

Landholding Agency: Navy

Property Number: 77199640040

Status: Unutilized

Comment: 4258 sq. ft., 1-story, most recent use—bomb shelter, off-site use only, relocation may not be feasible

Bldg. 219

Naval Station, Ford Island

Pearl Harbor Co: Honolulu HI 96860-

Landholding Agency: Navy

Property Number: 77199640041

Status: Unutilized

Comment: 620 sq. ft., most recent use—damage control, off-site use only, relocation may not be feasible

Bldg. 220

Naval Station, Ford Island

Pearl Harbor Co: Honolulu HI 96860-

Landholding Agency: Navy

Property Number: 77199640042

Status: Unutilized

Comment: 620 sq. ft., most recent use—damage control, off-site use only, relocation may not be feasible

Illinois

Soc. Sec. Admin. Ofc.

525 18th Street

Rock Island Co: IL

Landholding Agency: GSA

Property Number: 54200310017

Status: Surplus

Comment: 5800 sq. ft., most recent use—office

GSA Number: 1-G-IL-730

Indiana

Federal Building

610 Connecticut Street

Gary Co: IN 46402-

Landholding Agency: GSA

Property Number: 54200310011

Status: Excess

Comment: 30,478 sq. ft., needs repair, presence of asbestos, most recent use—office

GSA Number: 1-G-IN-591

Soc. Sec. Admin. Ofc.

327 West Marion

Elkhart Co: IN

Landholding Agency: GSA

Property Number: 54200310016

Status: Surplus

Comment: 6600 sq. ft., most recent use—office

GSA Number: 1-G-IN-596

Iowa

Fed. Bldg./Bldg. 87

6921 Chaffee Road

Ft. Des Moines Co: Polk IA 50315-

Landholding Agency: GSA

Property Number: 54200310022

Status: Surplus

Comment: 8375 sq. ft., presence of asbestos, most recent use—storage

GSA Number: 7-G-IA-501

Post Office/Fed. Bldg.

101 Parkside

West Branch Co: Cedar IA 52358-

Landholding Agency: GSA

Property Number: 54200310023

Status: Surplus

Comment: 9500 sq. ft.

GSA Number: 7-G-IA-505

Maryland

9 Housing Units

U.S. Naval Station

Annapolis Co: Anne Arundel MD 21402-

Landholding Agency: Navy

Property Number: 77200240005

Status: Excess

Comment: size varies, brick veneer wood frame on slab, off-site use only

Michigan

Detroit Job Corp Center

10401 E. Jefferson

1265 St. Clair

Detroit Co: Wayne MI

Landholding Agency: GSA

Property Number: 54200230012

Status: Surplus

Comment: Parcel One = 80,590 sq. ft. bldg., needs repair, presence of asbestos; Parcel Two = 5140 sq. ft. bldg.

GSA Number: 2-L-MI-757

Missouri

Bldgs. 90A/B, 91A/B, 92A/B

Jefferson Barracks Housing

St. Louis Co: MO 63125-

Landholding Agency: Air Force

Property Number: 18200220002

Status: Excess

Comment: 6450 sq. ft., needs repair, includes 2 acres

Federal Building

1520 Market Street

St. Louis Co: MO 63103-

Landholding Agency: GSA

Property Number: 54200330012

Status: Excess

Comment: 4 story + basement, most recent use—office, will be vacant 2004

GSA Number: 7-G-MO-0636

New Jersey

Bldg. MA-1

Naval Weapons Station

Colts Neck Co: NJ 07722-

Landholding Agency: Navy

Property Number: 77200310007

Status: Unutilized

Comment: 7200 sq. ft., presence of asbestos/lead paint, off-site use only

Bldg. 5A

Naval Weapons Station

Colts Neck Co: NJ

Landholding Agency: Navy

Property Number: 77200310008

Status: Unutilized

Comment: 687 sq. ft., most recent use—storage, off-site use only

Bldg. R-17

Naval Weapons Station

Colts Neck Co: NJ 07722-

Landholding Agency: Navy

Property Number: 77200310009

Status: Unutilized

Comment: 1134 sq. ft., presence of asbestos/lead paint, most recent use—storage, off-site use only

Bldg. C-32A

Naval Weapons Station

Colts Neck Co: NJ 07722-

Landholding Agency: Navy

Property Number: 77200310010

Status: Unutilized

Comment: 255 sq. ft., off-site use only

Bldg. S-331

Naval Weapons Station

Colts Neck Co: NJ 07722-

Landholding Agency: Navy

Property Number: 77200310011

Status: Unutilized

Comment: 256 sq. ft., presence of asbestos/lead paint, most recent use—storage, off-site use only

Bldg. 513

Naval Weapons Station

Colts Neck Co: NJ 07722-

Landholding Agency: Navy

Property Number: 77200310012

Status: Unutilized

Comment: 1647 sq. ft., presence of asbestos/lead paint, off-site use only

New York

Lockport Comm. Facility

Shawnee Road

Lockport Co: Niagara NY

Landholding Agency: Air Force

Property Number: 18200040004

Status: Excess

Comment: 2 concrete block bldgs., (415 & 2929 sq. ft.) on 7.68 acres

Fed. Bldg. #2

850 Third Ave.

Brooklyn Co: NY 11232-

Landholding Agency: GSA

Property Number: 54200240005

Status: Surplus

Comment: est. cost to repair $1.4 million, potential for sanitary facs/electricity, safety concerns at present time, Federal prison/heavy industrial/commercial area, presence of asbestos/lead paint

GSA Number : 1-G-NY-0872

Hancock Army Complex

Track 4

Stewart Drive West

Cicero Co: Onondaga NY 13039-

Landholding Agency: GSA

Property Number: 54200310013

Status: Excess

Comment: 3 bunker-style structures and several small outbuildings, presence of asbestos, possible lead paint, most recent use—admin/training/storage

GSA Number : 1-D-NY-803

Ohio

USCG Old ANT Huron

110 Wall Street

Huron Co: OH

Landholding Agency: GSA

Property Number: 54200310004

Status: Excess

Comment: 2780 sq. ft., licensed to City, activities may be restricted, most recent use—admin/office/storage

GSA Number : 1-U-OH-686B

South Dakota

West Communications Annex

Ellsworth Air Force Base

Ellsworth AFB Co: Meade SD 57706-

Landholding Agency: Air Force

Property Number: 18199340051

Status: Unutilized

Comment: 2 bldgs. on 2.37 acres, remote area, lacks infrastructure, road hazardous during winter storms, most recent use—industrial storage

Virginia

Bldg. 1443 & Adj. Bldg.

NSS Norfolk Naval Shipyard

Portsmouth Co: VA 23704-

Landholding Agency: Navy

Property Number: 77200310060

Status: Excess

Comment: approx. 400 sq. ft. each, most recent use—storage, off-site use only

Land (by State)

Alaska

37.109 acres

U.S. Coast Guard

Gibson Cove Co: Kodiak AK

Landholding Agency: GSA

Property Number: 54200320001

Status: Surplus

Comment: easements for highway, electrical and communication lines, historical landmark

GSA Number: 9-U-AK-783

Florida

Homestead Communications Annex

Homestead Co: Dare FL 33033-

Landholding Agency: Air Force

Property Number: 18200210015

Status: Excess

Comment: 20 acres w/concrete bldg., consist of wetlands/100 year floodplain, most recent use—high frequency regional broadcasting system

Navy Site Alpha

Homestead Co: Miami/Dade FL

Landholding Agency: GSA

Property Number: 54200330009

Status: Surplus

Comment: undeveloped wetlands, designated as “Environmental Protection”, permit restriction, low elevation, remore location

GSA Number: 4-N-FL-1079

Nebraska

Hastings Radar Bomb Scoring

Hastings Co: Adams NE 68901-

Landholding Agency: Air Force

Property Number: 18199810027

Status: Unutilized

Comment: 11 acres

New Mexico

H Marker Facility

Roswell Co: Chaves NM 88201-

Landholding Agency: GSA

Property Number: 54200330011

Status: Surplus

Comment: 12.398 acres, subject to existing easements

GSA Number: 7-U-NM-0587

South Dakota

S. Nike Ed. Annex Land

Ellsworth AFB

Pennington Co: SD 57706-

Landholding Agency: Air Force

Property Number: 18200220010

Status: Unutilized

Comment: 7 acres w/five foundations from demolished bldgs. remain on site; with a road and a parking lot

Texas

Former VORTAC Facility

Bridgeport Co: Wise TX

Landholding Agency: GSA

Property Number: 54200320006

Status: Surplus

Comment: 0.23 acres w/73.34 acres of easements, limited access

GSA Number: 7-U-TX-1072

Suitable/Unavailable Properties

Buildings (by State)

Alabama

Coosa River Storage Annex

Anniston Army Depot

Talladega Co: AL 35161-

Landholding Agency: GSA

Property Number: 54200230001

Status: Excess

Comment: 136 storage igloos, two cemeteries, sentry bldg., ofc. bldg., admin. bldg. in poor condition on 2834 acres

GSA Number: 4-J-AL-541

California

Merced Federal Bldg.

415 W. 18th St.

Merced Co: CA 95340-

Landholding Agency: GSA

Property Number: 54200220012

Status: Surplus

Comment: 15,492 sq. ft., presence of asbestos/lead paint, Historic Preservation Covenant will be included in deed, relocation issue

GSA Number: 9-G-CA-1567

Fed. Bldg./Post Office

1125 I Street

Modesto Co: CA 95354-

Landholding Agency: GSA

Property Number: 54200310010

Status: Excess

Comment: 23,770 sq. ft., presence of asbestos/lead paint, controlled access, Federal tenants occupy portion of bldg., National Register of Historic Places

GSA Number: 9-G-CA-1576

Bell Federal Service Center

5600 Rickenbacker Road

Bell Co: Los Angeles CA 90201-

Landholding Agency: GSA

Property Number: 54200320009

Status: Excess

Comment: Correction/Republished: 7 bldgs., various sq. ft., need repair, portion occupied, restricted access, presence of asbestos/lead paint/PCBs, most recent use—warehouse/office

GSA Number: 9-G-CA-06984

Colorado

Bldg. 100

La Junta Strategic Range

La Junta Co: Otero CO 81050-9501

Landholding Agency: Air Force

Property Number: 18200230001

Status: Excess

Comment: 7760 sq. ft., most recent use—admin/electronic equip. maintenance

Bldg. 101

La Junta Strategic Range

La Junta Co: Otero CO 81050-9501

Landholding Agency: Air Force

Property Number: 18200230002

Status: Excess

Comment: 336 sq. ft., most recent use—storage

Bldg. 102

La Junta Strategic Range

La Junta Co: Otero CO 81050-9501

Landholding Agency: Air Force

Property Number: 18200230003

Status: Excess

Comment: 1056 sq. ft., most recent use—storage

Bldg. 103

La Junta Strategic Range

La Junta Co: Otero CO 81050-9501

Landholding Agency: Air Force

Property Number: 18200230004

Status: Excess

Comment: 784 sq. ft., most recent use—storage

Bldg. 104

La Junta Strategic Range

La Junta Co: Otero CO 81050-9501

Landholding Agency: Air Force

Property Number: 18200230005

Status: Excess

Comment: 312 sq. ft., most recent use—storage

Bldg. 106

La Junta Strategic Range

La Junta Co: Otero CO 81050-9501

Landholding Agency: Air Force

Property Number: 18200230006

Status: Excess

Comment: 100 sq. ft., most recent use—storage

Florida

Federal Building

98 3rd St., SW

Winter Haven Co: Polk FL 33880-

Landholding Agency: GSA

Property Number: 54200320013

Status: Excess

Comment: 7335 sq. ft., existing lease

GSA Number : 4-G-FL-1210

Idaho

Bldg. 224

Mountain Home Air Force

Co: Elmore ID 83648-

Landholding Agency: Air Force

Property Number: 18199840008

Status: Unutilized

Comment: 1890 sq. ft., no plumbing facilities, possible asbestos/lead paint, most recent use—office

Illinois

LaSalle Comm. Tower Site

1600 NE 8th St.

Richland Co: LaSalle IL 61370-

Landholding Agency: GSA

Property Number: 54200020019

Status: Excess

Comment: 120 sq. ft. cinder block bldg. and a 300′ tower

GSA Number : 1-D-IL-724

Iowa

Bldg. 00669

Sioux Gateway Airport

Sioux City Co: Woodbury IA 51110-

Landholding Agency: Air Force

Property Number: 18199310002

Status: Unutilized

Comment: 1113 sq. ft., 1-story concrete block bldg., contamination clean-up in process

Maryland

29 Bldgs.

Walter Reed Army Medical Center

Forest Glen Annex, Linden Lane

Silver Spring Co: Montgomery MD 20910-1246

Location: 24 bldgs. are in poor condition, presence of asbestos/lead paint, most recent use—hospital annex, lab, office

Landholding Agency: GSA

Property Number: 54200130012

Status: Excess

Comment: Historic Preservation Covenants will impact reuse, property will not be parcelized for disposal, high cost associated w/maintenance, estimated cost to renovate $17 million

GSA Number: 4-D-MD-558-B

Michigan

Pontiac Federal Bldg.

142 Auburn Ave.

Pontiac Co: Oakland MI

Landholding Agency: GSA

Property Number: 54200220005

Status: Surplus

Comment: 11,910 sq. ft., most recent use—office

GSA Number: 1-G-MI-809

Minnesota

GAP Filler Radar Site

St. Paul Co: Rice MN 55101-

Landholding Agency: GSA

Property Number: 54199910009

Status: Excess

Comment: 1266 sq. ft., concrete block, presence of asbestos/lead paint, most recent use—storage, zoning requirements, preparations for a Phase I study underway, possible underground storage tank

GSA Number: 1-GR(1)-MN-475

MG Clement Trott Mem. USARC

Walker Co: Cass MN 56484-

Landholding Agency: GSA

Property Number: 54199930003

Status: Excess

Comment: 4320 sq. ft. training center and 1316 sq. ft. vehicle maintenance shop, presence of environmental conditions

GSA Number: 1-D-MN-575

Missouri

Hardesty Federal Complex

607 Hardesty Avenue

Kansas City Co: Jackson MO 64124-3032

Landholding Agency: GSA

Property Number: 54199940001

Status: Excess

Comment: 7 warehouses and support buildings (540 to 216,000 sq. ft.) on 17.47 acres, major rehab, most recent use—storage/office, utilities easement

GSA Number: 7-G-MO-637

New Jersey

Chapel Hill Front Range Light

N. Lenard Ave.

Middletown Co: Monmouth NJ

Landholding Agency: GSA

Property Number: 54200240011

Status: Excess

Comment: steel tower on 0.40 acres, possible flood hazard, wetlands & possible endangered species

GSA Number: 1-U-NJ-0627

New York

Bldg. 1225

Verona Text Annex

Verona Co: Oneida NY 13478-

Landholding Agency: Air Force

Property Number: 18200220014

Status: Unutilized

Comment: 3865 sq. ft., needs repair, presence of asbestos/lead paint, most recent use—research lab

Bldg. 1226

Verona Test Annex

Verona Co: Oneida NY 13478-

Landholding Agency: Air Force

Property Number: 18200220015

Status: Unutilized

Comment: 7500 sq. ft., most recent use—storage

Bldg. 1227

Verona Text Annex

Verona Co: Oneida NY 13478-

Landholding Agency: Air Force

Property Number: 18200220016

Status: Unutilized

Comment: 1152 sq. ft., presence of asbestos/lead paint, most recent use—power station

Bldg. 1231

Verona Test Annex

Verona Co: Oneida NY 13478-

Landholding Agency: Air Force

Property Number: 18200220017

Status: Unutilized

Comment: 3865 sq. ft., presence of asbestos/lead paint/volatile organic compounds, access requirements, most recent use—research lab

Bldg. 1233

Verona Test Annex

Verona Co: Oneida NY 13478-

Landholding Agency: Air Force

Property Number: 18200220018

Status: Unutilized

Comment: 1152 sq. ft., needs repair, presence of asbestos/lead paint/volatile organic compounds, access requirements, most recent use—power station

Bldgs. 1235, 1239

Verona Test Annex

Verona Co: Oneida NY 13478-

Landholding Agency: Air Force

Property Number: 18200220019

Status: Unutilized

Comment: 144/825 sq. ft., need repairs, presence of lead paint, most recent use—electric switch station

Bldg. 1241

Verona Test Annex

Verona Co: Oneida NY 13478-

Landholding Agency: Air Force

Property Number: 18200220020

Status: Unutilized

Comment: 159 sq. ft., presence of lead paint, most recent use—sewage pump station

Bldg. 1243

Verona Test Annex

Verona Co: Oneida NY 13478-

Landholding Agency: Air Force

Property Number: 18200220021

Status: Unutilized

Comment: 25 sq. ft., most recent use—waste treatment

Bldg. 1245

Verona Test Annex

Verona Co: Oneida NY 13478-

Landholding Agency: Air Force

Property Number: 18200220022

Status: Unutilized

Comment: 3835 sq. ft., needs repair, presence of asbestos/lead paint, most recent use—research lab

Bldg. 1247

Verona Test Annex

Verona Co: Oneida NY 13478-

Landholding Agency: Air Force

Property Number: 18200220023

Status: Unutilized

Comment: 576 sq. ft., needs repair, presence of asbestos/lead paint, most recent use—power station

Bldg. 1250 + land

Verona Test Annex

Verona Co: Oneida NY 13478-

Landholding Agency: Air Force

Property Number: 18200220024

Status: Unutilized

Comment: 11,766 sq. ft. offices/lab with 495 acres, presence of asbestos/lead paint/wetlands

Bldg. 1253

Verona Test Annex

Verona Co: Oneida NY 13478-

Landholding Agency: Air Force

Property Number: 18200220025

Status: Unutilized

Comment: 3835 sq. ft., needs repair, presence of asbestos/lead paint/volatile organic compounds, access requirements, most recent use—research lab

Bldg. 1255

Verona Test Annex

Verona Co: Oneida NY 13478-

Landholding Agency: Air Force

Property Number: 18200220026

Status: Unutilized

Comment: 576 sq. ft., needs repair, presence of lead paint/volatile organic compounds, access requirement, most recent use—power station

Bldg. 1261

Verona Test Annex

Verona Co: Oneida NY 13478-

Landholding Agency: Air Force

Property Number: 18200220027

Status: Unutilized

Comment: 3835 sq. ft., needs repair, presence of asbestos/lead paint, most recent use—research lab

Bldg. 1263

Verona Test Annex

Verona Co: Oneida NY 13478-

Landholding Agency: Air Force

Property Number: 18200220028

Status: Unutilized

Comment: 576 sq. ft. needs repair, presence of lead paint, most recent use—power station

Bldgs. 1266, 1269

Verona Test Annex

Verona Co: Oneida NY 13478-

Landholding Agency: Air Force

Property Number: 18200220029

Status: Unutilized

Comment: 3730/3865 sq. ft., need repairs, presence of asbestos/lead paint, most recent use—research lab

Bldg. 1271

Verona Test Annex

Verona Co: Oneida NY 13478-

Landholding Agency: Air Force

Property Number: 18200220030

Status: Unutilized

Comment: 1152 sq. ft., needs repair, presence of lead paint, most recent use—power station

Bldg. 1273

Verona Test Annex

Verona Co: Oneida NY 13478-

Landholding Agency: Air Force

Property Number: 18200220031

Status: Unutilized

Comment: 87 sq. ft., presence of asbestos, most recent use—sewage pump station

Bldg. 1277

Verona Test Annex

Verona Co: Oneida NY 13478-

Landholding Agency: Air Force

Property Number: 18200220032

Status: Unutilized

Comment: 3865 sq. ft., needs repair, presence of asbestos/lead paint, most recent use—research lab

Bldg. 1279

Verona Test Annex

Verona Co: Oneida NY 13478-

Landholding Agency: Air Force

Property Number: 18200220033

Status: Unutilized

Comment: 1152 sq. ft., needs repair, presence of lead paint, most recent use—power station

Bldg. 1285

Verona Test Annex

Verona Co: Oneida NY 13478-

Landholding Agency: Air Force

Property Number: 18200220034

Status: Unutilized

Comment: 4690 sq. ft., needs repair, presence of asbestos/lead paint, most recent use—research lab

Bldg. 1287

Verona Test Annex

Verona Co: Oneida NY 13478-

Landholding Agency: Air Force

Property Number: 18200220035

Status: Unutilized

Comment: 1152 sq. ft., needs repair, presence of lead paint, most recent use—power station

Social Sec. Admin. Bldg.

517 N. Barry St.

Olean Co: NY 10278-0004

Landholding Agency: GSA

Property Number: 54200230009

Status: Excess

Comment: 9174 sq. ft., poor condition, most recent use—office

GSA Number: 1-G-NY-0895

Army Reserve Center

205 Oak Street

Batavia Co: NY 14020-

Landholding Agency: GSA

Property Number: 54200240004

Status: Excess

Comment: 9695 sq. ft., presence of asbestos/lead paint, most recent use—admin/storage, proximity of wetlands

GSA Number: 1-D-NY-890

North Carolina

Tarheel Army Missile Plant

Burlington Co: Alamance NC 27215-

Landholding Agency: GSA

Property Number: 54199820002

Status: Excess

Comment: 31 bldgs., presence of asbestos, most recent use—admin., warehouse, production space and 10.04 acres parking area, contamination at site—environmental clean up in process

GSA Number: 4-D-NC-593

Vehicle Maint. Facility

310 New Bern Ave.

Raleigh Co: Wake NC 27601-

Landholding Agency: GSA

Property Number: 54200020012

Status: Excess

Comment: 10,455 sq. ft., most recent use—maintenance garage

GSA Number : NC076AB

Pennsylvania

Bldg. 201

Pittsburgh IAP

Corapolis Co: Allegheny PA 15108-

Landholding Agency: Air Force

Property Number: 18200240014

Status: Excess

Comment: 310 sq. ft., most recent use—storage

Bldg. 203

Pittsburgh IAP

Corapolis Co: Allegheny PA 15108-

Landholding Agency: Air Force

Property Number: 18200240015

Status: Excess

Comment: 4163 sq. ft., most recent use—vehicle maint. shop

Bldg. 208

Pittsburgh IAP

Corapolis Co: Allegheny PA 15108-

Landholding Agency: Air Force

Property Number: 18200240016

Status: Excess

Comment: 144 sq. ft., most recent use—storage

Bldg. 210

Pittsburgh IAP

Corapolis Co: Allegheny PA 15108-

Landholding Agency: Air Force

Property Number: 18200240017

Status: Excess

Comment: 263 sq. ft., most recent use—storage

Bldg. 211

Pittsburgh IAP

Corapolis Co: Allegheny PA 15108-

Landholding Agency: Air Force

Property Number: 18200240018

Status: Excess

Comment: 1731 sq. ft., most recent use—office

Puerto Rico

7.5 Naval Reservation

Munoz Rivera Ave.

San Juan Co: PR

Landholding Agency: GSA

Property Number: 54200240012

Status: Excess

Comment: multi-use structures including admin. and residential, presence of asbestos/lead paint, exhibits historical and archeological significance

GSA Number: 1-N-PR-497

Tennessee

3 Facilities, Guard Posts

Volunteer Army Ammunition Plant

Chattanooga Co: Hamilton TN 37421-

Landholding Agency: GSA

Property Number: 54199930011

Status: Surplus

Comment: 48-64 sq. ft., most recent use—access control, property was published in error as available on 2/11/00

GSA Number: 4-D-TN-594F

4 Bldgs.

Volunteer Army Ammunition Plant

Railroad System Facilities

Chattanooga Co: Hamilton TN 37421-

Landholding Agency: GSA

Property Number: 54199930012

Status: Surplus

Comment: 144-2,420 sq. ft., most recent use—storage/rail weighing facilities/dock, potential use restrictions, property was published in error as available on 2/11/00

GSA Number: 4-D-TN-594F

200 bunkers

Volunteer Army Ammunition Plant

Storage Magazines

Chattanooga Co: Hamilton TN 37421-

Landholding Agency: GSA

Property Number: 54199930014

Status: Surplus

Comment: approx. 200 concrete bunkers covering a land area of approx. 4000 acres, most recent use—storage/buffer area, potential use restrictions, property was published in error as available on 2/11/00

GSA Number: 4-D-TN-594F

Bldg. 232

Volunteer Army Ammunition Plant

Chattanooga Co: Hamilton TN 37421-

Landholding Agency: GSA

Property Number: 54199930020

Status: Surplus

Comment: 10,000 sq. ft., most recent use—office, presence of asbestos, approx. 5 acres associated w/bldg., potential use restrictions, property was published in error as available on 2/11/00

GSA Number: 4-D-TN-594F

2 Laboratories

Volunteer Army Ammunition Plant

Chattanooga Co: Hamilton TN 37421-

Landholding Agency: GSA

Property Number: 54199930021

Status: Surplus

Comment: 2000-12,000 sq. ft., potential use/lease restrictions, property was published in error as available on 2/11/00

GSA Number: 4-D-TN-594F

3 Facilities

Volunteer Army Ammunition Plant

Water Distribution Facilities

Chattanooga Co: Hamilton TN 37421-

Landholding Agency: GSA

Property Number: 54199930022

Status: Surplus

Comment: 256-15,204 sq. ft., 35.86 acres associated w/bldgs., most recent use—water distribution system, potential use/lease restrictions, property was published in error as available on 2/11/00

GSA Number: 4-D-TN-594F

Federal Bldg.

118 East Locust Street

Lafayette Co: Macon TN 37083-

Landholding Agency: GSA

Property Number: 54200220010

Status: Excess

Comment: 12,605 sq. ft., most recent use—office, portion occupied by U.S. Postal Service

GSA Number: 4-G-TN-656

Virginia

Federal Building

103 South Main Street

Farmville Co: Prince Edward VA 23901-

Landholding Agency: GSA

Property Number: 54200310020

Status: Excess

Comment: 7686 sq. ft., historic preservation covenants, most recent use—office

GSA Number: 4-G-VA-732

Wisconsin

Wausau Federal Building

317 First Street

Wausau Co: Marathon WI 54401-

Landholding Agency: GSA

Property Number: 54199820016

Status: Excess

Comment: 30,500 sq. ft., presence of asbestos, eligible for listing on the Natl Register of Historic Places, most recent use—office

GSA Number: 1-G-WI-593

Land (by State)

Florida

Communications Annex Site

S. Allapattah Road

Homestead Co: Miami-Dade FL

Landholding Agency: GSA

Property Number: 54200310008

Status: Excess

Comment: approx. 20 acres w/deteriorated building, no public water, within 100-year floodplain, approx. 17 acres identified as wetlands, subject to all applicable laws/regulations

GSA Number: 4-D-FL-1078-4A

Georgia

Land w/highway interchange

Fort Benning

I-185 and Hwy 27/280

Columbus Co: Muscogee GA 31905-

Landholding Agency: GSA

Property Number: 54200320002

Status: Excess

Comment: 113 acres—98 acres of this land encumbered by highway interchange

GSA Number: 4-D-GA-0872

Hawaii

Parcels 9, 2, 4

Loran Station Upolu Point

Hawi Co: Hawaii HI

Location: Resubmitted to Federal Register for publication

Landholding Agency: GSA

Property Number: 54200220002

Status: Surplus

Comment: parcel 9 = 6.242 acres/encumbered by utility and road access easements, parcel 2 = 1.007 acres; parcel 4 = 5.239 acres

GSA Number: 9-U-HI-0572

Kentucky

Site 12A

Licking River Access Site

Wilder Co: Campbell KY 41071-

Landholding Agency: GSA

Property Number: 54200330010

Status: Excess

Comment: 20.61 acres, periodic flooding

GSA Number: 4-D-KY-0613

New Jersey

Belle Mead Depot

Rt. 206/Mountain View Rd.

Hillsborough Co: Somerset NJ 08502-

Landholding Agency: GSA

Property Number: 54200210014

Status: Excess

Comment: approx. 400 acres, property will not be subdivided, contaminants of concern present, lease restriction on 7 acres, 44 miles of railroad track, remediation activity, potential restriction of property f

GSA Number: 1-G-NJ-0642

North Carolina

Oak Island Light Tower

Caswell Beach Co: Brunswick NC 28465-

Landholding Agency: GSA

Property Number: 54200320003

Status: Excess

Comment: 5.36 acres w/light tower, endangered species and wetlands, controlled access

GSA Number: 4-U-NC-742

South Dakota

Tract 133

Ellsworth AFB

Box Elder Co: Pennington SD 57706-

Landholding Agency: Air Force

Property Number: 18200310004

Status: Unutilized

Comment: 53.23 acres

Tract 67

Ellsworth AFB

Box Elder Co: Pennington SD 57706-

Landholding Agency: Air Force

Property Number: 18200310005

Status: Unutilized

Comment: 121 acres, bentonite layer in soil, causes movement

Tennessee

1500 acres

Volunteer Army Ammunition Plant

Chattanooga Co: Hamilton TN 37421-

Landholding Agency: GSA

Property Number: 54199930015

Status: Surplus

Comment: scattered throughout facility, most recent use—buffer area, steep topography, potential use restrictions, property was published in error as available on 2/11/00

GSA Number: 4-D-TN-594F

Virginia

1.0 acre

Naval Station

St. Juliens Creek Annex

Portsmouth Co: VA

Landholding Agency: Navy

Property Number: 77200320033

Status: Unutilized

Comment: grassy field, restricted access

West Virginia

Kennedy Park & Marina

523 Harrison Street

Newell Co: Hancock WV

Landholding Agency: GSA

Property Number: 54200310006

Status: Excess

Comment: 13.02 acres, subject to lease

GSA Number: 4-G-PA-0545

Suitable/To Be Excessed

Buildings (by State)

New York

Bldg. 1

Hancock Field

Syracuse Co: Onandaga NY 13211-

Landholding Agency: Air Force

Property Number: 18199530048

Status: Excess

Comment: 4955 sq. ft., 2 story concrete block, needs rehab, most recent use—administration

Bldg. 2

Hancock Field

Syracuse Co: Onandaga NY 13211-

Landholding Agency: Air Force

Property Number: 18199530049

Status: Excess

Comment: 1476 sq. ft., 1 story concrete block, needs rehab, most recent use—repair shop

Bldg. 6

Hancock Field

Syracuse Co: Onandaga NY 13211-

Landholding Agency: Air Force

Property Number: 18199530050

Status: Excess

Comment: 2466 sq. ft., 1 story concrete block, needs rehab, most recent use—repair shop

Bldg. 11

Hancock Field

Syracuse Co: Onandaga NY 13211-

Landholding Agency: Air Force

Property Number: 18199530051

Status: Excess

Comment: 1750 sq. ft., 1 story wood frame, needs rehab, most recent use—storage

Bldg. 8

Hancock Field

Syracuse Co: Onandaga NY 13211-

Landholding Agency: Air Force

Property Number: 18199530052

Status: Excess

Comment: 1812 sq. ft., 1 story concrete block, needs rehab, most recent use—repair shop communications

Bldg. 14

Hancock Field

Syracuse Co: Onandaga NY 13211-

Landholding Agency: Air Force

Property Number: 18199530053

Status: Excess

Comment: 156 sq. ft., 1 story wood frame, most recent use—vehicle fuel station

Bldg. 30

Hancock Field

Syracuse Co: Onandaga NY 13211-

Landholding Agency: Air Force

Property Number: 18199530054

Status: Excess

Comment: 3649 sq. ft., 1 story, needs rehab, most recent use—assembly hall

Bldg. 31

Hancock Field

Syracuse Co: Onandaga NY 13211-

Landholding Agency: Air Force

Property Number: 18199530055

Status: Excess

Comment: 8252 sq. ft., 1 story concrete block, most recent use—storage

Bldg. 32

Hancock Field

Syracuse Co: Onandaga NY 13211-

Landholding Agency: Air Force

Property Number: 18199530056

Status: Excess

Comment: 1627 sq. ft., 1 story concrete block, most recent use—storage

South Carolina

5 Bldgs.

Charleston AFB Annex Housing

N. Charleston SC 29404-4827

Location: 101 Vector Ave., 112, 114, 116, 118 Intercept Ave.

Landholding Agency: Air Force

Property Number: 18199830035

Status: Unutilized

Comment: 1433 sq. ft. + 345 sq. ft. carport, lead base paint/exterior most recent use—residential

1 Bldg.

Charleston AFB Annex Housing

N. Charleston SC 29404-4827

Location: 102 Vector Ave.

Landholding Agency: Air Force

Property Number: 18199830036

Status: Unutilized

Comment: 1545 sq. ft. + 345 sq. ft. carport, lead base paint/exterior most recent use—residential

1 Bldg.

Charleston AFB Annex Housing

N. Charleston SC 29404-4827

Location: 103 Vector Ave.

Landholding Agency: Air Force

Property Number: 18199830037

Status: Unutilized

Comment: 1445 sq. ft. + 346 sq. ft. carport, lead base paint/exterior most recent use—residential

18 Bldg.

Charleston AFB Annex Housing

N. Charleston SC 29404-4827

Location: 104-107 Vector Ave., 108-111, 113, 115, 117, 119 Intercept Ave., 120-122 Radar Ave.

Landholding Agency: Air Force

Property Number: 18199830038

Status: Unutilized

Comment: 1265 sq. ft. + 353 sq. ft. carport, lead base paint/exterior most recent use—residential

Land (by State)

New York

14.90 Acres

Hancock Field

Syracuse Co: Onandaga NY 13211-

Landholding Agency: Air Force

Property Number: 18199530057

Status: Excess

Comment: Fenced in compound, most recent use—Air Natl. Guard Communication & Electronics Group

Unsuitable Properties

Buildings (by State)

Alabama

Sand Island Light House

Gulf of Mexico

Mobile AL

Landholding Agency: GSA

Property Number: 54199610001

Status: Excess

Reason: Inaccessible

GSA Number: 4-U-AL-763

Alaska

Bldg. 15532

Elmendorf AFB

Elmendorf AFB Co: AK 99506-

Landholding Agency: Air Force

Property Number: 18200220001

Status: Unutilized

Reasons: Within airport runway clear zone, Secured Area

Bldg. 8354

Elmendorf AFB

Elmendorf AFB Co: AK 99506-

Landholding Agency: Air Force

Property Number: 18200240001

Status: Unutilized

Reason: Extensive deterioration

Bldg. 11827

Elmendorf AFB

Elmendorf AFB Co: AK 99506-

Landholding Agency: Air Force

Property Number: 18200240002

Status: Unutilized

Reasons: Within 2000 ft. of flammable or explosive material, Secured Area

Bldg. 7537

Elmendorf Air Force Base

Elmendorf AFB Co: AK 99506-

Landholding Agency: Air Force

Property Number: 18200320001

Status: Unutilized

Reason: Extensive deterioration

Bldg. 9340

Elmendorf Air Force Base

Elmendorf AFB Co: AK 99506-

Landholding Agency: Air Force

Property Number: 18200320002

Status: Unutilized

Reason: Extensive deterioration

Bldg. 9342

Elmendorf Air Force Base

Elmendorf AFB Co: AK 99506-

Landholding Agency: Air Force

Property Number: 18200320003

Status: Unutilized

Reason: Extensive deterioration

Bldg. 12737

Elmendorf Air Force Base

Elmendorf AFB Co: AK 99506-

Landholding Agency: Air Force

Property Number: 18200320004

Status: Unutilized

Reason: Extensive deterioration

Bldg. 13251

Elmendorf Air Force Base

Elemendorf AFB Co: AK 99506-

Landholding Agency: Air Force

Property Number: 18200320005

Status: Unutilized

Reason: Extensive deterioration

Bldg. 29453

Elmendorf Air Force Base

Elmendorf AFB Co: AK 99506-

Landholding Agency: Air Force

Property Number: 18200320006

Status: Unutilized

Reason: Extensive deterioration

Bldg. 6527

Elmendorf AFB

Elmendorf AFB Co: AK 99506-

Landholding Agency: Air Force

Property Number: 18200330001

Status: Unutilized

Reason: Extensive deterioration

Bldg. 12739

Elmendorf AFB

Elmendorf AFB Co: AK 99506-

Landholding Agency: Air Force

Property Number: 18200330002

Status: Unutilized

Reason: Extensive deterioration

Warehouse

Naval Arctic Research Lab

Cape Sabine Co: AK

Landholding Agency: Navy

Property Number: 77200320001

Status: Excess

Reason: Extensive deterioration

Operations Bldg.

Naval Arctic Research Lab

Cape Sabine Co: AK -

Landholding Agency: Navy

Property Number: 77200320002

Status: Excess

Reason: Extensive deterioration

Warehouse

Naval Arctic Research Lab

Point McIntyre Co: AK

Landholding Agency: Navy

Property Number: 77200320019

Status: Excess

Reason: Extensive deterioration

Garage

Naval Arctic Research Lab

Point McIntyre Co: AK

Landholding Agency: Navy

Property Number: 77200320020

Status: Excess

Reason: Extensive deterioration

Operations Bldg.

Naval Arctic Research Lab

Point McIntyre Co: AK

Landholding Agency: Navy

Property Number: 77200320021

Status: Excess

Reason: Extensive deterioration

Arizona

Patrol Station

S. of U.S. Hwy 85

Gila Bend Co: AZ

Landholding Agency: GSA

Property Number: 54200230006

Status: Excess

Reason: Within airport runway clear zone

GSA Number : 9-J-AZ-821

California

Bldg. 30101

Vandenberg AFB

Vandenberg Co: Santa Barbara CA 93437-

Landholding Agency: Air Force

Property Number: 18200210019

Status: Unutilized

Reason: Secured Area

Bldgs. 30131, 30709

Vandenberg AFB

Vandenberg Co: Santa Barbara CA 93437-

Landholding Agency: Air Force

Property Number: 18200210020

Status: Unutilized

Reason: Secured Area

Bldgs. 30137, 30701

Vandenberg AFB

Vandenberg Co: Santa Barbara CA 93437-

Landholding Agency: Air Force

Property Number: 18200210021

Status: Unutilized

Reason: Secured Area

Bldg. 30235

Vandenberg AFB

Vandenberg Co: Santa Barbara CA 93437-

Landholding Agency: Air Force

Property Number: 18200210022

Status: Unutilized

Reason: Secured Area

Bldgs. 30238, 30446

Vandenberg AFB

Vandenberg Co: Santa Barbara CA

Landholding Agency: Air Force

Property Number: 18200210023

Status: Unutilized

Reason: Secured Area

Bldgs. 30239, 30444

Vandenberg AFB

Vandenberg Co: Santa Barbara CA 93437-

Landholding Agency: Air Force

Property Number: 18200210024

Status: Unutilized

Reason: Secured Area

Bldgs. 30306, 30335, 30782

Vandenberg AFB

Vandenberg Co: Santa Barbara CA 93437-

Landholding Agency: Air Force

Property Number: 18200210025

Status: Unutilized

Reason: Secured Area

Bldgs. 30339, 30340, 30341

Vandenberg AFB

Vandenberg Co: Santa Barbara CA 93437-

Landholding Agency: Air Force

Property Number: 18200210026

Status: Unutilized

Reason: Secured Area

Bldg. 30447

Vandenberg AFB

Vandenberg Co: Santa Barbara CA 93437-

Landholding Agency: Air Force

Property Number: 18200210027

Status: Unutilized

Reason: Secured Area

Bldg. 30524

Vandenberg AFB

Vandenberg Co: Santa Barbara CA 93437-

Landholding Agency: Air Force

Property Number: 18200210028

Status: Unutilized

Reason: Secured Area

Bldg. 30647

Vandenberg AFB

Vandenberg Co: Santa Barbara CA 93437-

Landholding Agency: Air Force

Property Number: 18200210029

Status: Unutilized

Reason: Secured Area

Bldgs. 30710, 30717

Vandenberg AFB

Vandenberg Co: Santa Barbara CA 93437-

Landholding Agency: Air Force

Property Number: 18200210030

Status: Unutilized

Reason: Secured Area

Bldgs. 30718, 30607

Vandenberg AFB

Vandenberg Co: Santa Barbara CA 93437-

Landholding Agency: Air Force

Property Number: 18200210031

Status: Unutilized

Reason: Secured Area

Bldgs. 30722, 30735

Vandenberg AFB

Vandenberg Co: Santa Barbara CA 93437-

Landholding Agency: Air Force

Property Number: 18200210032

Status: Unutilized

Reason: Secured Area

Bldgs. 30775, 30777

Vandenberg AFB

Vandenberg Co: Santa Barbara CA 93437-

Landholding Agency: Air Force

Property Number: 18200210033

Status: Unutilized

Reason: Secured Area

Bldgs. 30830, 30837

Vandenberg AFB

Vandenberg Co: Santa Barbara CA 93437-

Landholding Agency: Air Force

Property Number: 18200210034

Status: Unutilized

Reason: Secured Area

Bldgs. 30839, 30844, 30854

Vandenberg AFB

Vandenberg Co: Santa Barbara CA 93437-

Landholding Agency: Air Force

Property Number: 18200210035

Status: Unutilized

Reason: Secured Area

Bldg. 2413

Edwards Air Force Base

Edwards AFB Co: Kern CA 93524-

Landholding Agency: Air Force

Property Number: 18200310001

Status: Unutilized

Reason: Secured Area

Bldg. 2418

Edwards Air Force Base

Edwards AFB Co: Kern CA 93524-

Landholding Agency: Air Force

Property Number: 18200310002

Status: Unutilized

Reason: Secured Area

Bldg. 2410

Edwards Air Force Base

Edwards AFB Co: Kern CA 93524-

Landholding Agency: Air Force

Property Number: 18200320007

Status: Unutilized

Reasons: Secured Area, Extensive deterioration

20 Bldgs.

Edwards AFB

Edwards AFB Co: Kern CA 93524-

Landholding Agency: Air Force

Property Number: 18200330003

Status: Excess

Reasons: Secured Area, Extensive deterioration

Bldg. 06522

Vandenberg AFB

Vandenberg AFB Co: Santa Barbara CA 93437-

Landholding Agency: Air Force

Property Number: 18200330004

Status: Unutilized

Reasons: Secured Area, Extensive deterioration

U.S. Customs House

300 South Ferry St.

Terminal Island Co: Los Angeles CA 90731-

Landholding Agency: GSA

Property Number: 54200310001

Status: Excess

Reason: Within 2000 ft. of flammable or explosive material GSA Number : 9-G-CA-1569

Bldg. 5B7

Marine Corps Recruit Depot

San Diego Co: CA 92140-

Landholding Agency: Navy

Property Number: 77199930089

Status: Unutilized

Reason: Extensive deterioration

Bldg. 23025

Marine Corps Air Station

Miramar Co: CA 92132-

Landholding Agency: Navy

Property Number: 77200030001

Status: Unutilized

Reason: Secured Area

Bldg. 23027

Marine Corps Air Station

Miramar Co: CA 92132-

Landholding Agency: Navy

Property Number: 77200030002

Status: Unutilized

Reason: Secured Area

Bldg. 33023

Naval Air Weapons Station

China Lake Co: CA 93555-6001

Landholding Agency: Navy

Property Number: 77200120115

Status: Excess

Reason: Extensive deterioration

Bldg. 6

Navy Marine Corps Rsv Ctr

Sacramento Co: CA 95828-

Landholding Agency: Navy

Property Number: 77200210017

Status: Unutilized

Reason: Secured Area

Bldg. 799

Naval Air Station

North Island Co: CA

Landholding Agency: Navy

Property Number: 77200210064

Status: Excess

Reason: Extensive deterioration

Bldg. 799

Naval Air Station

North Island Co: CA

Landholding Agency: Navy

Property Number: 77200210124

Status: Excess

Reason: Extensive deterioration

Bldg. 41308

Marine Corps Base

Camp Pendleton Co: CA 92055-

Landholding Agency: Navy

Property Number: 77200220031

Status: Excess

Reason: Extensive deterioration

Bldgs. 154, 157

Navy Region South West

San Diego Co: CA

Landholding Agency: Navy

Property Number: 77200220072

Status: Excess

Reason: Extensive deterioration

Bldg. P-1019

Marine Corps Base

Camp Pendleton Co: CA 92055-

Landholding Agency: Navy

Property Number: 77200220073

Status: Excess

Reason: Extensive deterioration

Bldg. P-4039

Marine Corps Base

Camp Pendleton Co: CA 92055-

Landholding Agency: Navy

Property Number: 77200220074

Status: Excess

Reason: Extensive deterioration

Bldg. P-5011

Marine Corps Base

Camp Pendleton Co: CA 92055-

Landholding Agency: Navy

Property Number: 77200220075

Status: Excess

Reason: Extensive deterioration

Bldg. P7058

Marine Corps Base

Camp Pendleton Co: CA 92055-

Landholding Agency: Navy

Property Number: 77200220076

Status: Excess

Reason: Extensive deterioration

Bldgs. 18412, 18413, 18414

Marine Warfare Training Ctr

Camp Pendleton Co: CA 92055-

Landholding Agency: Navy

Property Number: 77200230040

Status: Excess

Reason: Extensive deterioration

Bldg. 394

Space & Naval Warfare Systems Center

San Diego Co: CA

Landholding Agency: Navy

Property Number: 77200240041

Status: Unutilized

Reason: Extensive deterioration

Bldg. 428

Space & Naval Warfare Systems Center

San Diego Co: CA

Landholding Agency: Navy

Property Number: 77200240042

Status: Unutilized

Reason: Extensive deterioration

Bldg. 513

Naval Postgraduate School

Monterey Co: CA 93943-

Landholding Agency: Navy

Property Number: 77200310004

Status: Excess

Reason: Extensive deterioration

Bldg. 1232

Marine Corps Base

Camp Pendleton Co: CA 92055-

Landholding Agency: Navy

Property Number: 77200310036

Status: Excess

Reason: Extensive deterioration

Bldg. 2297

Marine Corps Base

Camp Pendleton Co: CA 92055-

Landholding Agency: Navy

Property Number: 77200310037

Status: Excess

Reason: Extensive deterioration

Bldg. 25037

Marine Corps Base

Camp Pendleton Co: CA 92055-

Landholding Agency: Navy

Property Number: 77200310038

Status: Excess

Reason: Extensive deterioration

Bldg. 25168

Marine Corps Base

Camp Pendleton Co: CA 92055-

Landholding Agency: Navy

Property Number: 77200310039

Status: Excess

Reason: Extensive deterioration

Bldg. 31339

Marine Corps Base

Camp Pendleton Co: CA 92055-

Landholding Agency: Navy

Property Number: 77200310040

Status: Excess

Reason: Extensive deterioration

Bldg. 31350

Marine Corps Base

Camp Pendleton Co: CA 92055-

Landholding Agency: Navy

Property Number: 77200310041

Status: Excess

Reason: Extensive deterioration

Bldg. 31628

Marine Corps Base

Camp Pendleton Co: CA 92055-

Landholding Agency: Navy

Property Number: 77200310042

Status: Excess

Reason: Extensive deterioration

Bldg. 31629

Marine Corps Base

Camp Pendleton Co: CA 92055-

Landholding Agency: Navy

Property Number: 77200310043

Status: Excess

Reason: Extensive deterioration

Bldg. 31753

Marine Corps Base

Camp Pendleton Co: CA 92055-

Landholding Agency: Navy

Property Number: 77200310044

Status: Excess

Reason: Extensive deterioration

Bldg. 31754

Marine Corps Base

Camp Pendleton Co: CA 92055-

Landholding Agency: Navy

Property Number: 77200310045

Status: Excess

Reason: Extensive deterioration

Bldg. 31764

Marine Corps Base

Camp Pendleton Co: CA 92055-

Landholding Agency: Navy

Property Number: 77200310046

Status: Unutilized

Reason: Extensive deterioration

Bldg. 52540

Marine Corps Base

Camp Pendleton Co: CA 92055-

Landholding Agency: Navy

Property Number: 77200310047

Status: Excess

Reason: Extensive deterioration

Bldg. 220178

Marine Corps Base

Camp Pendleton Co: CA 92055-

Landholding Agency: Navy

Property Number: 77200310048

Status: Excess

Reason: Extensive deterioration

Bldg. 232

Naval Air Facility

El Centro Co: CA 92243-

Landholding Agency: Navy

Property Number: 77200310055

Status: Unutilized

Reason: Extensive deterioration

Bldg. 2203

Marine Corps Base

Camp Pendleton Co: CA

Landholding Agency: Navy

Property Number: 77200320022

Status: Excess

Reason: Extensive deterioration

Bldg. 2683

Marine Corps Base

Camp Pendleton Co: CA 92055-

Landholding Agency: Navy

Property Number: 77200320023

Status: Excess

Reason: Extensive deterioration

Bldg. 2685

Marine Corps Base

Camp Pendleton Co: CA 92055-

Landholding Agency: Navy

Property Number: 77200320024

Status: Excess

Reason: Extensive deterioration

Bldg. 2692

Marine Corps Base

Camp Pendleton Co: CA 92055-

Landholding Agency: Navy

Property Number: 77200320025

Status: Excess

Reason: Extensive deterioration

Bldg. 20735

Marine Corps Base

Camp Pendleton Co: CA 92055-

Landholding Agency: Navy

Property Number: 77200320026

Status: Excess

Reason: Extensive deterioration

Bldg. 21546

Marine Corps Base

Camp Pendleton Co: CA 92055-

Landholding Agency: Navy

Property Number: 77200320027

Status: Excess

Reason: Extensive deterioration

Bldg. 26034

Marine Corps Base

Camp Pendleton Co: CA 92055-

Landholding Agency: Navy

Property Number: 77200320028

Status: Excess

Reason: Extensive deterioration

Bldg. 141MG

Naval Recreation Center

Naval Base

San Diego Co: CA

Landholding Agency: Navy

Property Number: 77200320054

Status: Excess

Reason: Extensive deterioration

Bldg. F

Coast Guard Air Station

San Bruno Co: San Mateo CA 94066-

Landholding Agency: Coast Guard

Property Number: 88200330007

Status: Underutilized

Reason: Secured Area

Bldg. H

Coast Guard Air Station

San Bruno Co: San Mateo CA 94066-

Landholding Agency: Coast Guard

Property Number: 88200330008

Status: Unutilized

Reason: Secured Area

Colorado

Bldg. 105

Peterson AFB

Colorado Springs Co: El Paso CO 80914-

Landholding Agency: Air Force

Property Number: 18200310003

Status: Underutilized

Reasons: Within airport runway clear zone, Secured Area

Florida

Bldg. 1345

Cape Canaveral AFS

Cape Canaveral Co: Brevard FL 32907-

Landholding Agency: Air Force

Property Number: 18200210016

Status: Unutilized

Reasons: Within 2000 ft. of flammable or explosive material, Secured Area

Bldg. 24451

Cape Canaveral AFS

Cape Canaveral Co: Brevard FL 32907-

Landholding Agency: Air Force

Property Number: 18200210017

Status: Unutilized

Reasons: Within 2000 ft. of flammable or explosive material, Secured Area

Bldg. 55122

Cape Canaveral AFS

Cape Canaveral Co: Brevard FL 32907-

Landholding Agency: Air Force

Property Number: 18200210018

Status: Unutilized

Reasons: Within 2000 ft. of flammable or explosive material, Secured Area

Bldg. 1705

Cape Canaveral AFS

Cape Canaveral Co: Brevard FL 32907-

Landholding Agency: Air Force

Property Number: 18200330005

Status: Unutilized

Reasons: Within 2000 ft. of flammable or explosive material, Secured Area, Extensive deterioration

Bldg. 55215

Cape Canaveral AFS

Cape Canaveral Co: Brevard FL 32907-

Landholding Agency: Air Force

Property Number: 18200330006

Status: Unutilized

Reasons: Within 2000 ft. of flammable or explosive material, Secured Area, Extensive deterioration

U.S. Customs House

1700 Spangler Boulevard

Hollywood Co: Broward FL 33316-

Landholding Agency: GSA

Property Number: 54200140012

Status: Surplus

Reasons: Within 2000 ft. of flammable or explosive material, Secured Area

GSA Number : 4-G-FL-1173

U.S. Classic Courthouse

601 N. Florida Ave

Tampa Co: FL 33602-

Landholding Agency: GSA

Property Number: 54200240018

Status: Excess

Reason: contamination—toxic mold

GSA Number : 4-G-FL-1208-1A

Bldg. C-26

Naval Air Station

Key West Co: Monroe FL 33040-

Landholding Agency: Navy

Property Number: 77200240043

Status: Unutilized

Reason: Extensive deterioration

Bldg. F-44

Naval Air Station

Key West Co: Monroe FL 33040-

Landholding Agency: Navy

Property Number: 77200240044

Status: Unutilized

Reason: Extensive deterioration

Bldg. 292

Naval Air Facility

Key West Co: Monroe FL 33040-

Landholding Agency: Navy

Property Number: 77200310058

Status: Unutilized

Reason: Extensive deterioration

Bldg. 1481

Naval Air Station

Milton Co: FL 32570-6001

Landholding Agency: Navy

Property Number: 77200310059

Status: Excess

Reasons: Within 2000 ft. of flammable or explosive material, Secured Area, Extensive deterioration

8 Bldgs.

Naval Air Station

Milton Co: FL 32570-6001

Location: 1440, 1440A, 1437, 1444, 1444A, 1444G, 2927, 2886

Landholding Agency: Navy

Property Number: 77200320055

Status: Excess

Reasons: Within 2000 ft. of flammable or explosive material, Secured Area, Extensive deterioration

Georgia

Bldgs. 03720, 03737

Fort Benning

Ft. Benning Co: Muscogee GA 31905-

Landholding Agency: Army

Property Number: 21200330200

Status: Excess

Reason: Extensive deterioration

Bldg. 14

Naval Air Station

Marietta Co: Cobb GA 30060-

Landholding Agency: Navy

Property Number: 77200310049

Status: Unutilized

Reasons: Within airport runway clear zone, Secured Area, Extensive deterioration

Bldg. 15

Naval Air Station

Marietta Co: Cobb GA 30060-

Landholding Agency: Navy

Property Number: 77200310050

Status: Unutilized

Reasons: Within airport runway clear zone, Secured Area, Extensive deterioration

Bldg. 109

Naval Air Station

Marietta Co: Cobb GA 30060-

Landholding Agency: Navy

Property Number: 77200310051

Status: Unutilized

Reasons: Secured Area, Extensive deterioration

Guam

Bldg. 138

Naval Forces, Marianas

Marianas Co: GU 96540-

Landholding Agency: Navy

Property Number: 77200210100

Status: Unutilized

Reason: Secured Area

Bldg. 460

Naval Forces, Marianas

Marianas Co: GU 96540-

Landholding Agency: Navy

Property Number: 77200210101

Status: Unutilized

Reason: Secured Area

Bldg. 1741

Naval Forces, Marianas

Marianas Co: GU 96540-

Landholding Agency: Navy

Property Number: 77200210102

Status: Unutilized

Reason: Secured Area

Bldg. 1742

Naval Forces, Marianas

Marianas Co: GU 96540-

Landholding Agency: Navy

Property Number: 77200210103

Status: Underutilized

Reason: Secured Area

Bldg. 1743

Naval Forces, Marianas

Marianas Co: GU 96540-

Landholding Agency: Navy

Property Number: 77200210104

Status: Underutilized

Reason: Secured Area

Bldg. 6012

Naval Forces, Marianas

Marianas Co: GU 96540-

Landholding Agency: Navy

Property Number: 77200210105

Status: Unutilized

Reason: Secured Area

Bldg. 6011

Naval Forces, Marianas

Marianas Co: GU 96540-

Landholding Agency: Navy

Property Number: 77200220024

Status: Unutilized

Reason: Secured Area

Bldgs. 23, 25 29

US Naval Ship Repair Facility

Marianas Co: GU

Landholding Agency: Navy

Property Number: 77200320003

Status: Unutilized

Reasons: Secured Area, Extensive deterioration

Bldgs. 31, 36, 38

US Naval Ship Repair Facility

Marianas Co: GU

Landholding Agency: Navy

Property Number: 77200320004

Status: Unutilized

Reasons: Secured Area, Extensive deterioration

Bldgs. 93-1, 94

US Naval Ship Repair Facility

Marianas Co: GU

Landholding Agency: Navy

Property Number: 77200320005

Status: Unutilized

Reasons: Secured Area, Extensive deterioration

Bldgs. 2001A, 2004

US Naval Ship Repair Facility

Marianas Co: GU

Landholding Agency: Navy

Property Number: 77200320006

Status: Unutilized

Reasons: Secured Area, Extensive deterioration,

Bldgs. 2008, 2062

US Naval Ship Repair Facility

Marianas Co: GU

Landholding Agency: Navy

Property Number: 77200320007

Status: Unutilized

Reasons: Secured Area, Extensive deterioration

Bldgs. 2010, 2013, 2028

US Naval Ship Repair Facility

Marianas Co: GU

Landholding Agency: Navy

Property Number: 77200320008

Status: Unutilized

Reasons: Secured Area, Extensive deterioration

Bldgs. 2039-2044

US Naval Ship Repair Facility

Marianas Co: GU

Landholding Agency: Navy

Property Number: 77200320009

Status: Unutilized

Reasons: Secured Area, Extensive deterioration

Bldg. 2049

US Naval Ship Repair Facility

Marianas Co: GU

Landholding Agency: Navy

Property Number: 77200320010

Status: Unutilized

Reasons: Secured Area, Extensive deterioration

Bldgs. 2053, 2054, 2055

US Naval Ship Repair Facility

Marianas Co: GU

Landholding Agency: Navy

Property Number: 77200320011

Status: Unutilized

Reasons: Secured Area, Extensive deterioration

Bldgs. 2061, 2068, 2069

US Naval Ship Repair Facility

Marianas Co: GU

Landholding Agency: Navy

Property Number: 77200320012

Status: Unutilized

Reasons: Secured Area, Extensive deterioration

Bldgs. 2070, 2071, 2074

US Naval Ship Repair Facility

Marianas Co: GU

Landholding Agency: Navy

Property Number: 77200320013

Status: Unutilized

Reasons: Secured Area, Extensive deterioration

Bldg. 2081

US Naval Ship Repair Facility

Marianas Co: GU

Landholding Agency: Navy

Property Number: 77200320014

Status: Unutilized

Reasons: Secured Area, Extensive deterioration

Bldgs. 2100, 2102

US Naval Ship Repair Facility

Marianas Co: GU

Landholding Agency: Navy

Property Number: 77200320015

Status: Unutilized

Reasons: Secured Area, Extensive deterioration

Hawaii

Bldg. 503

Bellows AFS

Bellows AFS Co: HI

Landholding Agency: Air Force

Property Number: 18200330007

Status: Unutilized

Reasons: Secured Area, Extensive deterioration

Bldg. 907

Hickam AFB

Hickam AFB Co: HI

Landholding Agency: Air Force

Property Number: 18200330009

Status: Unutilized

Reasons: Secured Area, Extensive deterioration

Bldg. 954

Hickam AFB

Hickam AFB Co: HI

Landholding Agency: Air Force

Property Number: 18200330010

Status: Unutilized

Reasons: Secured Area, Extensive deterioration

Bldg. 980

Hickam AFB

Hickam AFB Co: HI

Landholding Agency: Air Force

Property Number: 18200330011

Status: Unutilized

Reason: Secured Area

Bldg. 992

Hickam AFB

Hickam AFB Co: HI

Landholding Agency: Air Force

Property Number: 18200330012

Status: Unutilized

Reason: Secured Area

Bldg. 1035

Hickam AFB

Hickam AFB Co: HI

Landholding Agency: Air Force

Property Number: 18200330013

Status: Unutilized

Reason: Secured Area

Bldgs. 1709, 1721

Hickam AFB

Hickam AFB Co: HI

Landholding Agency: Air Force

Property Number: 18200330014

Status: Unutilized

Reasons: Secured Area, Extensive deterioration

Bldg. 2041

Hickam AFB

Hickam AFB Co: HI

Landholding Agency: Air Force

Property Number: 18200330015

Status: Unutilized

Reasons: Secured Area, Extensive deterioration

Bldg. 2044

Hickam AFB

Hickam AFB Co: HI

Landholding Agency: Air Force

Property Number: 18200330016

Status: Unutilized

Reasons: Secured Area, Extensive deterioration

Bldg. 2104

Hickam AFB

Hickam AFB Co: HI

Landholding Agency: Air Force

Property Number: 18200330017

Status: Unutilized

Reason: Secured Area

Bldg. 3018

Hickam AFB

Hickam AFB Co: HI

Landholding Agency: Air Force

Property Number: 18200330018

Status: Unutilized

Reasons: Secured Area, Extensive deterioration

Bldg. 3202

Hickam AFB

Hickam AFB Co: HI

Landholding Agency: Air Force

Property Number: 18200330019

Status: Unutilized

Reasons: Within 2000 ft. of flammable or explosive material, Secured Area, Extensive deterioration

Bldgs. 3338, 3356

Hickam AFB

Hickam AFB Co: HI

Landholding Agency: Air Force

Property Number: 18200330020

Status: Unutilized

Reasons: Secured Area, Extensive deterioration

Bldg. 3432

Hickam AFB

Hickam AFB Co: HI

Lanholding Agency: Air Force

Property Number: 18200330021

Status: Unutilized

Reasons: Secured Area, Extensive deterioration

Bldg. 3375

Hickam AFB

Hickam AFB Co: HI

Landholding Agency: Air Force

Property Number: 18200330031

Status: Unutilized

Reason: Secured Area

Bldg. 9

Navy Public Works Center

Kolekole Road

Lualualei Co: Honolulu HI 96782-

Lanholding Agency: Navy

Property Number: 77199530009

Status: Excess

Reasons: Within 2000 ft. of flammable or explosive material, Secured Area

Bldg. X5

Nanumea Road

Pearl Harbor Co: Honolulu HI 96782-

Lanholding Agency: Navy

Property Number: 77199530010

Status: Excess

Reason: Secured Area

Bldg. SX30

Nanumea Road

Pearl Harbor Co: Honolulu HI 96860-

Lanholding Agency: Navy

Property Number: 77199530011

Status: Excess

Reason: Secured Area

Bldg. Q13

Naval Station, Ford Island

Pearl Harbor Co: Honolulu HI 96860-

Lanholding Agency: Navy

Property Number: 77199640035

Status: Unutilized

Reason: Extensive deterioration

Bldg. Q14

Naval Station, Ford Island

Pearl Harbor Co: Honolulu HI 96860-

Lanholding Agency: Navy

Property Number: 77199640036

Status: Unutilized

Reason: Extensive deterioration

Bldg. 40

Naval Magazine Lualualei

Co: Oahu HI 96792-4301

Landholding Agency: Navy

Property Number: 77199830028

Status: Unutilized

Reason: Extensive deterioration

Bldg. 50

Naval Magazine Lualualei

Co: Oahu HI 96792-4301

Landholding Agency: Navy

Property Number: 77199830029

Status: Unutilized

Reason: Extensive deterioration

Bldg. Q76

Naval Magazine Lualualei

Co: Oahu HI 96792-4301

Landholding Agency: Navy

Property Number: 77199830030

Status: Unutilized

Reason: Extensive deterioration

Bldg. Q334

Naval Magazine Lualualei

Co: Oahu HI 96792-4301

Landholding Agency: Navy

Property Number: 77199830031

Status: Unutilized

Reason: Extensive deterioration

Bldg. Q410

Naval Magazine Lualualei

Co: Oahu HI 96792-4301

Landholding Agency: Navy

Property Number: 77199830034

Status: Unutilized

Reason: Extensive deterioration

Bldg. Q422

Naval Magazine Lualualei

Co: Oahu HI 96792-4301

Landholding Agency: Navy

Property Number: 77199830035

Status: Unutilized

Reason: Extensive deterioration

Bldg. 429

Naval Magazine Lualualei

Co: Oahu HI 96792-4301

Landholding Agency: Navy

Property Number: 77199830036

Status: Unutilized

Reason: Extensive deterioration

Bldg. 431

Naval Magazine Lualualei

Co: Oahu HI 96792-4301

Landholding Agency: Navy

Property Number: 77199830037

Status: Unutilized

Reason: Extensive deterioration

Bldg. 447

Naval Magazine Lualualei

Co: Oahu HI 96792-4301

Landholding Agency: Navy

Property Number: 77199830038

Status: Unutilized

Reason: Extensive deterioration

Facility 19

Naval Station

Pearl Harbor Co: Honolulu HI 96860-

Lanholding Agency: Navy

Property Number: 77199840045

Status: Excess

Reason: Secured Area

Facility SX30

Navy Public Works Center

Pearl Harbor Co: Honolulu HI 96860-

Lanholding Agency: Navy

Property Number: 77199920027

Status: Excess

Reasons: Secured Area, Extensive deterioration

Bldg. T47

Naval Shipyard

Pearl Harbor Co: Honolulu HI 96860-5350

Landholding Agency: Navy

Property Number: 77200240045

Status: Unutilized

Reason: Extensive deterioration

Bldg. 621

Naval Station, Pearl Harbor

Honolulu Co: HI 96860-

Landholding Agency: Navy

Property Number: 77200310001

Status: Excess

Reason: Extensive deterioration

Bldg. 1G

Naval Shipyard

Pearl Harbor Co: Honolulu HI 96860-5350

Landholding Agency: Navy

Property Number: 77200310056

Status: Excess

Reason: Secured Area

Bldg. 27

Naval Shipyard

Pearl Harbor Co: Honolulu HI 96860-5350

Landholding Agency: Navy

Property Number: 77200310057

Status: Excess

Reasons: Secured Area, Extensive deterioration

Change Room

Base Camp

Kahoolawe Co: Maui HI

Landholding Agency: Navy

Property Number: 77200320059

Status: Excess

Reasons: Not accessible by road, Within 2000 ft. of flammable or explosive material

Electric Generator Bldg.

Base Camp

Kahoolawe Co: Maui HI

Landholding Agency: Navy

Property Number: 77200320060

Status: Excess

Reasons: Not accessible by road, Within 2000 ft. of flammable or explosive material

Compressor Shed

Base Camp

Kahoolawe Co: Maui HI

Landholding Agency: Navy

Property Number: 77200320061

Status: Excess

Reasons: Not accessible by road, Within 2000 ft. of flammable or explosive material

System Shed

Base Camp

Kahoolawe Co: Maui HI

Landholding Agency: Navy

Property Number: 77200320062

Status: Excess

Reasons: Not accessible by road, Within 2000 ft. of flammable or explosive material

Idaho

Bldg. 1328

Mountain Home AFB

Mountain Home Co: Elmore ID 83648-

Landholding Agency: Air Force

Property Number: 18200240003

Status: Excess

Reason: Within 2000 ft. of flammable or explosive material

Federal Bldg./Post Office

222 S. Seventh Street

St. Maries Co: ID 83861-

Landholding Agency: GSA

Property Number: 54200310002

Status: Surplus

Reason: Within 2000 ft. of flammable or explosive material

GSA Number: 9-G-ID-550

Federal Bldg./Post Office

304 North 8th Street

Boise Co: ID 83724-

Landholding Agency: GSA

Property Number: 54200310003

Status: Surplus

Reason: Within 2000 ft. of flammable or explosive material

GSA Number : 9-G-ID-549

Illinois

Bldg. 945

Fermi Natl Accelerator Lab

Batavia Co: DuPage IL 60510-

Landholding Agency: Energy

Property Number: 41200330004

Status: Excess

Reason: Extensive deterioration

Bldg. 415

Naval Training Center

201 N. Decatur Ave.

Great Lakes IL

Landholding Agency: Navy

Property Number: 77199840023

Status: Unutilized

Reason: Secured Area

Bldg. 1015

Naval Training Center

201 N. Decatur Ave.

Great Lakes IL

Landholding Agency: Navy

Property Number: 77199840024

Status: Unutilized

Reason: Secured Area

Bldg. 1016

Naval Training Center

201 N. Decatur Ave.

Great Lakes IL

Landholding Agency: Navy

Property Number: 77199840025

Status: Unutilized

Reason: Secured Area

Bldg. 910

Naval Training Center

Great Lakes Co: IL 60088-5000

Landholding Agency: Navy

Property Number: 77199920055

Status: Unutilized

Reason: Secured Area

Bldg. 800

Naval Training Center

Great Lakes Co: IL 60088-5000

Landholding Agency: Navy

Property Number: 77199920056

Status: Unutilized

Reason: Secured Area

Bldg. 1000

Naval Training Center

Great Lakes Co: IL 60088-5000

Landholding Agency: Navy

Property Number: 77199920057

Status: Unutilized

Reason: Secured Area

Bldg. 1200

Naval Training Center

Great Lakes Co: IL 60088-5000

Landholding Agency: Navy

Property Number: 77199920058

Status: Unutilized

Reason: Secured Area

Bldg. 1400

Naval Training Center

Great Lakes Co: IL 60088-5000

Landholding Agency: Navy

Property Number: 77199920059

Status: Unutilized

Reason: Secured Area

Bldg. 1600

Naval Training Center

Great Lakes Co: IL 60088-5000

Landholding Agency: Navy

Property Number: 77199920060

Status: Unutilized

Reason: Secured Area

Bldg. 2600

Naval Training Center

Great Lakes Co: IL 60088-5000

Landholding Agency: Navy

Property Number: 77199920061

Status: Unutilized

Reason: Secured Area

Kansas

Sunflower AAP

Desoto Co: Johnson KS 66018-

Landholding Agency: GSA

Property Number: 54199830010

Status: Excess

Reason: Estensive deterioration

GSA Number: 7-D-KS-0581

Maine

Bldg. 499

Bangor IAP

Bangor Co: Penobscot ME 04401-

Landholding Agency: Air Force

Property Number: 18200320008

Status: Unutilized

Reasons: Within 2000 ft. of flammable or explosive material, Secured Area

Bldg. M-4

Portsmouth Naval Shipyard

Kittery Co: York ME 03904-

Landholding Agency: Navy

Property Number: 77200240012

Status: Excess

Reason: Secured Area

Bldg. M-6

Portsmouth Naval Shipyard

Kittery Co: York ME 03904-

Landholding Agency: Navy

Property Number: 77200240013

Status: Excess

Reason: Secured Area

Bldg. M-9

Portsmouth Naval Shipyard

Kittery Co: York ME 03904-

Landholding Agency: Navy

Property Number: 77200240014

Status: Excess

Reason: Secured Area

Bldg. M-10

Portsmouth Naval Shipyard

Kittery Co: York ME 03904-

Landholding Agency: Navy

Property Number: 77200240015

Status: Excess

Reason: Secured Area

Bldg. M-11

Portsmouth Naval Shipyard

Kittery Co: York ME 03904-

Landholding Agency: Navy

Property Number: 77200240016

Status: Excess

Reason: Secured Area

Bldg. M-18

Portsmouth Naval Shipyard

Kittery Co: York ME 03904-

Landholding Agency: Navy

Property Number: 77200240017

Status: Excess

Reason: Secured Area

Bldg. H-29

Portsmouth Naval Shipyard

Kittery Co: York ME 03904-

Landholding Agency: Navy

Property Number: 77200240018

Status: Excess

Reasons: Within 2000 ft. of flammable or explosive material, Secured Area

Bldg. 33

Portsmouth Naval Shipyard Kittery Co: York ME 03904-

Landholding Agency: Navy

Property Number: 77200240019

Status: Excess

Reason: Secured Area

Bldg. 34

Portsmouth Naval Shipyard

Kittery Co: York ME 03904-

Landholding Agency: Navy

Property Number: 77200240020

Status: Excess

Reason: Secured Area

Bldg. 41

Portsmouth Naval Shipyard

Kittery Co: York ME 03904-

Landholding Agency: Navy

Property Number: 77200240021

Status: Excess

Reason: Secured Area

Bldg. 55

Portsmouth Naval Shipyard

Kittery Co: York ME 03904-

Landholding Agency: Navy

Property Number: 77200240022

Status: Excess

Reason: Secured Area

Bldg. 62/62A

Portsmouth Naval Shipyard

Kittery Co: York ME 03904-

Landholding Agency: Navy

Property Number: 77200240023

Status: Excess

Reason: Secured Area

Bldg. 63

Portsmouth Naval Shipyard

Kittery Co: York ME 03904-

Landholding Agency: Navy

Property Number: 77200240024

Status: Excess

Reason: Secured Area

Bldg. 65

Portsmouth Naval Shipyard

Kittery Co: York ME 03904-

Landholding Agency: Navy

Property Number: 77200240025

Status: Excess

Reason: Secured Area

Bldg. 158

Portsmouth Naval Shipyard

Kittery Co: York ME 03904-

Landholding Agency: Navy

Property Number: 77200240026

Status: Excess

Reasons: Within 2000 ft. of flammable or explosive material, Secured Area

Bldg. 188

Portsmouth Naval Shipyard

Kittery Co: York ME 03904-

Landholding Agency: Navy

Property Number: 77200240027

Status: Excess

Reason: Secured Area

Bldg. 189

Portsmouth Naval Shipyard

Kittery Co: York ME 03904-

Landholding Agency: Navy

Property Number: 77200240028

Status: Excess

Reason: Secured Area

Bldg. 237

Portsmouth Naval Shipyard

Kittery Co: York ME 03904-

Landholding Agency: Navy

Property Number: 77200240029

Status: Excess

Reason: Secured Area

Massachusetts

Wayland Army Natl Guard Fac.

Oxbow Road

Wayland Co: MA 01778-

Landholding Agency: GSA

Property Number: 54200240007

Status: Excess

Reason: Extensive deterioration

GSA Number : 1-D-MA-0725

Michigan

Bldg. 550

Selfridge Outer Marker Site

Selfridge ANGB Co: Macomb MI 48045-5295

Landholding Agency: Air Force

Property Number: 18200230017

Status: Unutilized

Reason: Extensive deterioration

Facilities 90004, 911146

Selfridge Outer Marker Site

Selfridge ANGB Co: Macomb MI 48045-5295

Landholding Agency: Air Force

Property Number: 18200230018

Status: Unutilized

Reason: Extensive deterioration

Bldg. 3

Alpena CRTC

Alpena Co: MI 49707-

Landholding Agency: Air Force

Property Number: 18200230027

Status: Unutilized

Reason: Secured Area

Bldgs. 10, 15

Alpena CRTC

Alpena Co: MI 49707-

Landholding Agency: Air Force

Property Number: 18200230028

Status: Unutilized

Reason: Secured Area

Bldgs. 31, 33, 38

Alpena CRTC

Alpena Co: MI 49707-

Landholding Agency: Air Force

Property Number: 18200230029

Status: Unutilized

Reason: Secured Area

Bldg. 44

Alpena CRTC

Alpena Co: MI 49707-

Landholding Agency: Air Force

Property Number: 18200230030

Status: Unutilized

Reason: Secured Area

Bldg. 53

Alpena CRTC

Alpena Co: MI 49707-

Landholding Agency: Air Force

Property Number: 18200230031

Status: Unutilized

Reason: Secured Area

Bldg. 219

Alpena CRTC

Alpena Co: MI 49707-

Landholding Agency: Air Force

Property Number: 18200230032

Status: Unutilized

Reason: Secured Area

Bldgs. 302, 304, 305

Alpena CRTC

Alpena Co: MI 49707-

Landholding Agency: Air Force

Property Number: 18200230033

Status: Unutilized

Reason: Secured Area

Bldg. 321

Alpena CRTC

Alpena Co: MI 49707-

Landholding Agency: Air Force

Property Number: 18200230034

Status: Unutilized

Reason: Secured Area

Bldgs. 330-333

Alpena CRTC

Alpena Co: MI 49707-

Landholding Agency: Air Force

Property Number: 18200230035

Status: Unutilized

Reason: Secured Area

Bldgs. 402, 414

Alpena CRTC

Alpena Co: MI 49707-

Landholding Agency: Air Force

Property Number: 18200230036

Status: Unutilized

Reason: Secured Area

Bldg. 4020

Alpena CRTC

Alpena Co: MI 49707-

Landholding Agency: Air Force

Property Number: 18200230037

Status: Unutilized

Reason: Secured Area

Stroh Army Reserve Center

17825 Sherwood Ave.

Detroit Co: Wayne MI 00000-

Landholding Agency: GSA

Property Number: 54200040001

Status: Surplus

Reason: Within 2000 ft. of flammable or explosive material

GSA Number : 1-D-MI-798

Pipe Island Lighthouse

St. Mary's River

Chippewa Co: MI

Landholding Agency: GSA

Property Number: 54200310007

Status: Excess

Reason: Not accessible by road

GSA Number: 1-U-MI-413A

Minnesota

Nike Battery Site, MS-40

Castle Rock Township

Farmington Co: Dakota MN 00000-

Landholding Agency: GSA

Property Number: 54200020004

Status: Surplus

Reason: Within 2000 ft. of flammable or explosive material

GSA Number: 1-I-MN-451-B

Parcel B

Twin Cities Army Ammunition Plant

Arden Hills Co: MN 55112-3938

Landholding Agency: GSA

Property Number: 54200240015

Status: Excess

Reason: Within 2000 ft. of flammable or explosive material

GSA Number: 1-D-MN-0578B

Mississippi

Bldgs. 239, 240

Naval Air Station

Meridian Co: Lauderdale MS 39309-

Landholding Agency: Navy

Property Number: 77200240060

Status: Unutilized

Reason: Secured Area

Bldg. 248

Naval Air Station

Meridian Co: Lauderdale MS 39309-

Landholding Agency: Navy

Property Number: 77200240061

Status: Unutilized

Reason: Secured Area

Bldg. 412

Naval Air Station

Meridian Co: Lauderdale MS 39309-

Landholding Agency: Navy

Property Number: 77200240062

Status: Unutilized

Reason: Secured Area

146 Units

Naval Air Station

Meridian Co: MS 39309-

Landholding Agency: Navy

Property Number: 77200310005

Status: Unutilized

Reason: Secured Area

Montana

Bldg. 347

Malmstrom AFB

Malmstrom AFB Co: Cascade MT 59402-

Landholding Agency: Air Force

Property Number: 18200220011

Status: Unutilized

Reasons: Within 2000 ft. of flammable or explosive material, Secured Area

Bldg. 3064

Malmstrom AFB

Malmstrom AFB Co: Cascade MT 59402-

Landholding Agency: Air Force

Property Number: 18200220013

Status: Unutilized

Reasons: Within 2000 ft. of flammable or explosive material, Secured Area

Bldg. 547

Malmstrom AFB

Malmstrom AFB Co: Cascade MT 59402-

Landholding Agency: Air Force

Property Number: 18200240004

Status: Unutilized

Reasons: Within 2000 ft. of flammable or explosive material, Secured Area

Bldg. 769

Malmstrom AFB

Malmstrom AFB Co: Cascade MT 59402-

Landholding Agency: Air Force

Property Number: 18200240005

Status: Unutilized

Reasons: Within 2000 ft. of flammable or explosive material, Secured Area

Bldg. 1084

Malmstrom AFB

Malmstrom AFB Co: Cascade MT 59402-

Landholding Agency: Air Force

Property Number: 18200240006

Status: Unutilized

Reasons: Within 2000 ft. of flammable or explosive material, Secured Area

Bldg. 2025

Malmstrom AFB

Malmstrom AFB Co: Cascade MT 59402-

Landholding Agency: Air Force

Property Number: 18200240007

Status: Unutilized

Reason: Secured Area

Bldg. 1700

Malmstrom AFB

Malmstrom AFB Co: Cascade MT 59402-

Landholding Agency: Air Force

Property Number: 18200330022

Status: Unutilized

Reasons: Within 2000 ft. of flammable or explosive material, Secured Area, Extensive deterioration

Bldg. 13403

Malmstrom AFB

Malmstrom AFB Co: Cascade MT 59402-

Landholding Agency: Air Force

Property Number: 18200330023

Status: Unutilized

Reasons: Within 2000 ft. of flammable or explosive material, Within airport runway clear zone, Secured Area, Extensive deterioration

Nevada

6 Bldgs.

Dale Street Complex

300, 400, 500, 600, Block Bldg, Valve House

Boulder City Co: NV 89005-

Landholding Agency: GSA

Property Number: 54200020017

Status: Excess

Reason: Extensive deterioration

GSA Number: LC-00-01-RP

New Hampshire

Bldg. 40

Portsmouth Naval Shipyard

Portsmouth Co: NH 03804-5000

Landholding Agency: Navy

Property Number: 77200240031

Status: Excess

Reasons: Within 2000 ft. of flammable or explosive material, Secured Area

New Jersey

Former NIKE Missile Battery

Site PH-58

Woolwich Co: Gloucester NJ

Landholding Agency: GSA

Property Number: 54200310012

Status: Excess

Reason: Extensive deterioration

GSA Number : 1-GR-NJ-0538

Bldg. 263

Naval Air Engineering Station

Lakehurst Co: Ocean NJ 08733-5000

Landholding Agency: Navy

Property Number: 77200310002

Status: Unutilized

Reason: Extensive deterioration

Bldg. GB-1

Naval Weapons Station

Colts Neck Co: NJ 07722-

Landholding Agency: Navy

Property Number: 77200310013

Status: Unutilized

Reason: Extensive deterioration

Bldg. D-5

Naval Weapons Station

Colts Neck Co: NJ 07722-

Landholding Agency: Navy

Property Number: 77200310014

Status: Unutilized

Reason: Extensive deterioration

Bldg. 6A

Naval Weapons Station

Colts Neck Co: NJ 07722-

Landholding Agency: Navy

Property Number: 77200310015

Status: Unutilized

Reason: Extensive deterioration

Bldg. C-14

Naval Weapons Station

Colts Neck Co: NJ 07722-

Landholding Agency: Navy

Property Number: 77200310016

Status: Unutilized

Reason: Extensive deterioration

Bldg. C-31

Naval Weapons Station

Colts Neck Co: NJ 07722-

Landholding Agency: Navy

Property Number: 77200310017

Status: Unutilized

Reason: Extensive deterioration

Bldg. C-36

Naval Weapons Station

Colts Neck Co: NJ 07722-

Landholding Agency: Navy

Property Number: 77200310018

Status: Unutilized

Reason: Extensive deterioration

Bldg. S-179

Naval Weapons Station

Colts Neck Co: NJ 07722-

Landholding Agency: Navy

Property Number: 77200310019

Status: Unutilized

Reason: Extensive deterioration

Bldg. 531

Naval Weapons Station

Colts Neck Co: NJ 07722-

Landholding Agency: Navy

Property Number: 77200310020

Status: Unutilized

Reason: Extensive deterioration

Bldg. 569

Naval Weapons Station

Colts Neck Co: NJ 07722-

Landholding Agency: Navy

Property Number: 77200310021

Status: Unutilized

Reason: Extensive deterioration

Bldg. 570

Naval Weapons Station

Colts Neck Co: NJ 07722-

Landholding Agency: Navy

Property Number: 77200310022

Status: Unutilized

Reason: Extensive deterioration

Bldg. 589

Naval Weapons Station

Colts Neck Co: NJ 07722-

Landholding Agency: Navy

Property Number: 77200310023

Status: Unutilized

Reason: Extensive deterioration

New Mexico

Bldg. 14170

Cannon AFB

Cannon AFB Co: Curry NM

Landholding Agency: Air Force

Property Number: 18200230010

Status: Unutilized

Reason: Secured Area

Bldg. 14240

Cannon AFB

Cannon AFB Co: NM

Landholding Agency: Air Force

Property Number: 18200230011

Status: Unutilized

Reason: Secured Area

Bldg. 14270

Cannon AFB

Cannon AFB Co: Curry NM

Landholding Agency: Air Force

Property Number: 18200230012

Status: Unutilized

Reason: Secured Area

Bldg. 14330

Cannon AFB

Cannon AFB Co: Curry NM

Landholding Agency: Air Force

Property Number: 18200230013

Status: Unutilized

Reason: Secured Area

Bldg. 14350

Cannon AFB

Cannon AFB Co: Curry NM

Landholding Agency: Air Force

Property Number: 18200230014

Status: Unutilized

Reason: Secured Area

Bldg. 14370

Cannon AFB

Cannon AFB Co: Curry NM

Landholding Agency: Air Force

Property Number: 18200230015

Status: Unutilized

Reason: Secured Area

Bldg. 14390

Cannon AFB

Cannon AFB Co: Curry NM

Landholding Agency: Air Force

Property Number: 18200230016

Status: Unutilized

Reason: Secured Area

Bldg. 524

Holloman AFB

Otero Co: NM 88330-

Landholding Agency: Air Force

Property Number: 18200330024

Status: Unutilized

Reasons: Within 2000 ft. of flammable or explosive material, Secured Area

Bldg. 1076

Holloman AFB

Otero Co: NM 88330-

Landholding Agency: Air Force

Property Number: 18200330025

Status: Unutilized

Reasons: Secured Area, Extensive deterioration

Bldg. 1190

Holloman AFB

Otero Co: NM 88330-

Landholding Agency: Air Force

Property Number: 18200330026

Status: Unutilized

Reasons: Secured Area, Extensive deterioration

Bldg. 1264

Holloman AFB

Otero Co: NM 88330-

Landholding Agency: Air Force

Property Number: 18200330027

Status: Unutilized

Reason: Secured Area

Bldg. 5001

Holloman AFB

Otero Co: NM 88330-

Landholding Agency: Air Force

Property Number: 18200330028

Status: Unutilized

Reason: Secured Area

Bldg. 5012

Holloman AFB

Otero Co: NM 88330-

Landholding Agency: Air Force

Property Number: 18200330029

Status: Unutilized

Reason: Secured Area

Bldg. N149

Naval Air Warfare

White Sands Co: NM 88002-

Landholding Agency: Navy

Property Number: 77200110104

Status: Excess

Reason: Extensive deterioration

New York

6 UG Missle Silos

Youngstown Test Annex

Porter Co: Niagara NY

Landholding Agency: Air Force

Property Number: 18200220003

Status: Unutilized

Reason: Extensive deterioration

Bldg. 100

Youngstown Test Annex

Porter Co: Niagara NY

Landholding Agency: Air Force

Property Number: 18200220004

Status: Unutilized

Reason: Extensive deterioration

Bldg. 101

Youngstown Test Annex

Porter Co: Niagara NY

Landholding Agency: Air Force

Property Number: 18200220005

Status: Unutilized

Reason: Extensive deterioration

Bldg. 104

Youngstown Test Annex

Porter Co: Niagara NY

Landholding Agency: Air Force

Property Number: 18200220006

Status: Unutilized

Reason: Extensive deterioration

Bldg. 107

Youngstown Test Annex

Porter Co: Niagara NY

Landholding Agency: Air Force

Property Number: 18200220007

Status: Unutilized

Reason: Extensive deterioration

Bldg. 109

Youngstown Test Annex

Porter Co: Niagara NY

Landholding Agency: Air Force

Property Number: 18200220008

Status: Unutilized

Reason: Extensive deterioration

Bldg. 116

Youngstown Test Annex

Porter Co: Niagara NY

Landholding Agency: Air Force

Property Number: 18200220009

Status: Unutilized

Reason: Extensive deterioration

Bldgs/Pier/Field

USCG/Ft. Totten

Borough of Queens Co: Flushing NY

Landholding Agency: GSA

Property Number: 54200320015

Status: Surplus

Reason: contamination

GSA Number : 1-U-NY-882

Oregon

Federal Building

256 Warner-Milne Road

Oregon City Co: OR 97045-

Landholding Agency: GSA

Property Number: 54200320004

Status: Surplus

Reason: Within 2000 ft. of flammable or explosive material

GSA Number : 9-G-OR-740

Coos Head Air National Guard S

Charleston Co: OR

Landholding Agency: GSA

Property Number: 54200320005

Status: Excess

Reasons: Within 2000 ft. of flammable or explosive material, Extensive deterioration

GSA Number: 9-D-OR-538E

Bldg. 30

Naval Weapons Systems Training

Boardman Co: Morrow OR

Landholding Agency: Navy

Property Number: 77200210070

Status: Unutilized

Reason: Secured Area

Bldg. 31

Naval Weapons Systems Training

Boardman Co: Morrow OR

Landholding Agency: Navy

Property Number: 77200210071

Status: Unutilized

Reason: Secured Area

Bldg. 32

Naval Weapons Systems Training

Boardman Co: Morrow OR

Landholding Agency: Navy

Property Number: 77200210072

Status: Unutilized

Reason: Secured Area

Bldg. 33

Naval Weapons Systems Training

Boardman Co: Morrow OR

Landholding Agency: Navy

Property Number: 77200210073

Status: Unutilized

Reason: Secured Area

Bldg. 35

Naval Weapons Systems Training

Boardman Co: Morrow OR

Landholding Agency: Navy

Property Number: 77200210074

Status: Unutilized

Reason: Secured Area

Bldg. 37

Naval Weapons Systems Training

Boardman Co: Morrow OR

Landholding Agency: Navy

Property Number: 77200210075

Status: Unutilized

Reason: Secured Area

Pennsylvania

Bldg. 02006

Defense Distribution Depot

New Cumberland Co: York PA 17070-5002

Landholding Agency: Army

Property Number: 21200330201

Status: Unutilized

Reason: Extensive deterioration

Bldg. 619

Naval Surface Warfare Center

Philadelphia Co: PA 19112-

Landholding Agency: Navy

Property Number: 77200320063

Status: Excess

Reason: Within 2000 ft. of flammable or explosive material

Rhode Island

Facility 6

Quonset State Airport

N. Kingstown Co: RI 02852-7545

Landholding Agency: Air Force

Property Number: 18200240008

Status: Unutilized

Reason: Within 2000 ft. of flammable or explosive material

Facility 16

Quonset State Airport

N. Kingstown Co: RI 02852-7545

Landholding Agency: Air Force

Property Number: 18200240009

Status: Unutilized

Reason: Within 2000 ft. of flammable or explosive material

South Carolina

Bldg. 7

Naval Weapons Station

Goose Creek Co: Berkeley SC 29445-

Landholding Agency: Navy

Property Number: 77200040030

Status: Unutilized

Reason: Secured Area

Bldg. 314

Naval Weapons Station

Goose Creek Co: Berkeley SC 29445-

Landholding Agency: Navy

Property Number: 77200040031

Status: Unutilized

Reason: Secured Area

17 Bldgs.

Naval Weapons Station

Goose Creek Co: Berkeley SC 29445-

Landholding Agency: Navy

Property Number: 77200320017

Status: Unutilized

Reasons: Within 2000 ft. of flammable or explosive material, Secured Area

Tennessee

22 Bldgs.

Volunteer Army Ammunition Plant

Warehouses (Southern Portion)

Chattanooga Co: Hamilton TN 37421-

Landholding Agency: GSA

Property Number: 54199930016

Status: Surplus

Reason: Within 2000 ft. of flammable or explosive material

GSA Number : 4-D-TN-594F

17 Bldgs.

Volunteer Army Ammunition Plant

Acid Production

Chattanooga Co: Hamilton TN 37421-

Landholding Agency: GSA

Property Number: 54199930017

Status: Surplus

Reasons: Within 2000 ft. of flammable or explosive material contamination

GSA Number : 4-D-TN-594F

41 Facilities

Volunteer Army Ammunition Plant

TNT Production

Chattanooga Co: Hamilton TN 37421-

Landholding Agency: GSA

Property Number: 54199930018

Status: Surplus

Reason: contamination

GSA Number : 4-D-TN-594F

5 Facilities

Volunteer Army Ammunition Plant

Waste Water Treatment

Chattanooga Co: Hamilton TN 37421-

Landholding Agency: GSA

Property Number: 54199930019

Status: Surplus

Reason: Extensive deterioration

GSA Number : 4-D-TN-594F

6 Bldgs.

Volunteer Army Ammunition Plant

Offices (Southern Portion)

Chattanooga Co: Hamilton TN 37421-

Landholding Agency: GSA

Property Number: 54199930023

Status: Surplus

Reason: Within 2000 ft. of flammable or explosive material

GSA Number : 4-D-TN-594F

Texas

6 Bldgs.

Ellington Field

1277, 1381, 1385, 1386, 1388, 1249

Houston Co: Harris TX 77034-5586

Landholding Agency: Air Force

Property Number: 18200240010

Status: Excess

Reason: Extensive deterioration

Bldg. 1307

Hensley Field ANG Station

Dallas Co: TX 75211-9820

Landholding Agency: Air Force

Property Number: 18200330030

Status: Excess

Reason: Extensive deterioration

Former Army Aircraft Plant

Industrial Road

Saginaw Co: Tarrant TX 76131-

Landholding Agency: GSA

Property Number: 54200310009

Status: Surplus

Reasons: Within 2000 ft. of flammable or explosive material, Extensive deterioration

GSA Number : 7-D-TX-0879

House #1, Tract 105-70

San Antonio Missions

San Antonio Co: Bexar TX 78214-

Landholding Agency: Interior

Property Number: 61200330032

Status: Unutilized

Reason: Extensive deterioration

House #2, Tract 105-70

San Antonio Missions

San Antonio Co: Bexar TX 78214-

Landholding Agency: Interior

Property Number: 61200330033

Status: Unutilized

Reason: Extensive deterioration

House #3, Tract 105-70

San Antonio Missions

San Antonio Co: Bexar TX 78214-

Landholding Agency: Interior

Property Number: 61200330034

Status: Unutilized

Reason: Extensive deterioration

House #4, Tract 105-70

San Antonio Missions

San Antonio Co: Bexar TX 78214-

Landholding Agency: Interior

Property Number: 61200330035

Status: Unutilized

Reason: Extensive deterioration

House #7, Tract 105-70

San Antonio Missions

San Antonio Co: Bexar TX 78214-

Landholding Agency: Interior

Property Number: 61200330036

Status: Unutilized

Reason: Extensive deterioration

Bldg. 113

Naval Air Station

Corpus Christi Co: Nueces TX 78419-

Landholding Agency: Navy

Property Number: 77200310054

Status: Excess

Reason: Within 2000 ft. of flammable or explosive material

Facility 13

Naval Air Station

Corpus Christi Co: Nueces TX 78419-5021

Landholding Agency: Navy

Property Number: 77200320051

Status: Excess

Reason: Extensive deterioration

Facility 94

Naval Air Station

Corpus Christi Co: Nueces TX 78419-5021

Landholding Agency: Navy

Property Number: 77200320052

Status: Excess

Reason: Extensive deterioration

Facility 1777

Naval Air Station

Corpus Christi Co: Nueces TX 78419-5021

Landholding Agency: Navy

Property Number: 77200320053

Status: Excess

Reason: Extensive deterioration

Virginia

Bldg. 417

Camp Pendleton

Virginia Beach Co: VA 23451-

Landholding Agency: Air Force

Property Number: 18200240011

Status: Excess

Reasons: Secured Area, Extensive deterioration

Bayview Tower

Langley AFB

Langley AFB Co: VA 23665-

Landholding Agency: Air Force

Property Number: 18200240012

Status: Unutilized

Reason: Floodway

Big Bethel Military Resv

Hampton Co: VA 23666-1432

Landholding Agency: GSA

Property Number: 54200310014

Status: Excess

Reason: Within 2000 ft. of flammable or explosive material

GSA Number: 4-D-VA-0733

Bldg. 584

Langley Air Force Base

Hampton Co: VA 23665-

Landholding Agency: GSA

Property Number: 54200320007

Status: Excess

Reason: Secured Area

GSA Number: 4-Z-VA-740-B

Bldg. 720

Langley Air Force Base

Hampton Co: VA 23665-

Landholding Agency: GSA

Property Number: 54200320008

Status: Excess

Reason: Secured Area

GSA Number: 4-Z-VA-740-A

Bldg. O2

Naval Weapons Station

Yorktown Co: York VA 23691-

Landholding Agency: Navy

Property Number: 77199810073

Status: Excess

Reason: Extensive deterioration

Bldg. 449

Norfolk Naval Shipyard

Portsmouth Co: VA 23709-

Landholding Agency: Navy

Property Number: 77199920068

Status: Excess

Reason: Extensive deterioration

Bldg. 450

Norfolk Naval Shipyard

Portsmouth Co: VA 23709-

Landholding Agency: Navy

Property Number: 77199920069

Status: Excess

Reason: Extensive deterioration

Bldg. 451

Norfolk Naval Shipyard

Portsmouth Co: VA 23709-

Landholding Agency: Navy

Property Number: 77199920070

Status: Excess

Reason: Extensive deterioration

Bldg. 453

Norfolk Naval Shipyard

Portsmouth Co: VA 23709-

Landholding Agency: Navy

Property Number: 77199920071

Status: Excess

Reason: Extensive deterioration

Bldg. 454

Norfolk Naval Shipyard

Portsmouth Co: VA 23709-

Landholding Agency: Navy

Property Number: 77199920072

Status: Excess

Reason: Extensive deterioration

Bldg. 708

Norfolk Naval Shipyard

Portsmouth Co: VA 23709-

Landholding Agency: Navy

Property Number: 77199920073

Status: Excess

Reason: Extensive deterioration

Bldg. 709

Norfolk Naval Shipyard

Portsmouth Co: VA 23709-

Landholding Agency: Navy

Property Number: 77199920074

Status: Excess

Reason: Extensive deterioration

Bldg. 710

Norfolk Naval Shipyard

Portsmouth Co: VA 23709-

Landholding Agency: Navy

Property Number: 77199920075

Status: Excess

Reason: Extensive deterioration

Bldg. 711

Norfolk Naval Shipyard

Portsmouth Co: VA 23709-

Landholding Agency: Navy

Property Number: 77199920076

Status: Excess

Reason: Extensive deterioration

Bldg. 712

Norfolk Naval Shipyard

Portsmouth Co: VA 23709-

Landholding Agency: Navy

Property Number: 77199920077

Status: Excess

Reason: Extensive deterioration

Bldg. 713

Norfolk Naval Shipyard

Portsmouth Co: VA 23709-

Landholding Agency: Navy

Property Number: 77199920078

Status: Excess

Reason: Extensive deterioration

Bldg. 714

Norfolk Naval Shipyard

Portsmouth Co: VA 23709-

Landholding Agency: Navy

Property Number: 77199920079

Status: Excess

Reason: Extensive deterioration

Bldg. 715

Norfolk Naval Shipyard

Portsmouth Co: VA 23709-

Landholding Agency: Navy

Property Number: 77199920080

Status: Excess

Reason: Extensive deterioration

Bldg. 716

Norfolk Naval Shipyard

Portsmouth Co: VA 23709-

Landholding Agency: Navy

Property Number: 77199920081

Status: Excess

Reason: Extensive deterioration

Bldg. 717

Norfolk Naval Shipyard

Portsmouth Co: VA 23709-

Landholding Agency: Navy

Property Number: 77199920082

Status: Excess

Reason: Extensive deterioration

Bldg. 718

Norfolk Naval Shipyard

Portsmouth Co: VA 23709-

Landholding Agency: Navy

Property Number: 77199920083

Status: Excess

Reason: Extensive deterioration

Bldg. 1454

Norfolk Naval Shipyard

Portsmouth Co: VA 23709-

Landholding Agency: Navy

Property Number: 77199920084

Status: Excess

Reason: Extensive deterioration

Bldg. 7

Naval Weapons Station

Yorktown Co: VA 23691-

Landholding Agency: Navy

Property Number: 77200020009

Status: Unutilized

Reasons: Within 2000 ft. of flammable or explosive material, Secured Area

Bldg. 12

Naval Weapons Station

Yorktown Co: VA 23691-

Landholding Agency: Navy

Property Number: 77200020010

Status: Unutilized

Reasons: Within 2000 ft. of flammable or explosive material, Secured Area, Extensive deterioration

Bldg. 24

Naval Weapons Station

Yorktown Co: VA 23691-

Landholding Agency: Navy

Property Number: 77200020011

Status: Unutilized

Reasons: Within 2000 ft. of flammable or explosive material, Secured Area

Bldg. 34

Naval Weapons Station

Yorktown Co: VA 23691-

Landholding Agency: Navy

Property Number: 77200020012

Status: Unutilized

Reasons: Within 2000 ft. of flammable or explosive material, Secured Area, Extensive deterioration

Bldg. 103B

Naval Weapons Station

Yorktown Co: VA 23691-

Landholding Agency: Navy

Property Number: 77200120049

Status: Excess

Reasons: Secured Area, Extensive deterioration

Bldg. B402

Naval Surface Warfare Center

Dalgren Co: King George VA 22448-

Landholding Agency: Navy

Property Number: 77200120059

Status: Unutilized

Reason: Extensive deterioration

Bldg. B425

Naval Surface Warfare Center

Dalgren Co: King George VA 22448-

Landholding Agency: Navy

Property Number: 77200120060

Status: Unutilized

Reason: Extensive deterioration

Bldg. B1379

Naval Surface Warfare Center

Dahlgren Co: King George VA 22448-

Landholding Agency: Navy

Property Number: 77200130066

Status: Unutilized

Reason: Extensive deterioration

Bldg. 51

Naval Weapons Station

Yorktown Co: VA 23691-

Landholding Agency: Navy

Property Number: 77200220054

Status: Excess

Reasons: Within 2000 ft. of flammable or explosive material, Secured Area, Extensive deterioration

Bldg. 79

Naval Weapons Station

Yorktown Co: VA 23691-

Landholding Agency: Navy

Property Number: 77200220055

Status: Excess

Reasons: Within 2000 ft. of flammable or explosive material, Secured Area

Bldg. 89

Naval Weapons Station

Yorktown Co: VA 23691-

Landholding Agency: Navy

Property Number: 77200220056

Status: Excess

Reasons: Within 2000 ft. of flammable or explosive material, Secured Area

5 Bldgs.

Naval Weapons Station

#90, 91, 95, 96, 101

Yorktown Co: VA 23691-

Landholding Agency: Navy

Property Number: 77200220057

Status: Excess

Reasons: Within 2000 ft. of flammable or explosive material, Secured Area, Extensive deterioration

Bldg. 119A

Naval Weapons Station

Yorktown Co: VA 23691-

Landholding Agency: Navy

Property Number: 77200220058

Status: Excess

Reasons: Within 2000 ft. of flammable or explosive material, Secured Area

Bldg. 378

Naval Weapons Station

Yorktown Co: VA 23691-

Landholding Agency: Navy

Property Number: 77200220059

Status: Excess

Reasons: Within 2000 ft. of flammable or explosive material, Secured Area

Bldg. 398

Naval Weapons Station

Yorktown Co: VA 23691-

Landholding Agency: Navy

Property Number: 77200220060

Status: Excess

Reasons: Within 2000 ft. of flammable or explosive material, Secured Area, Extensive deterioration

Bldg. 415

Naval Weapons Station

Yorktown Co: VA 23691-

Landholding Agency: Navy

Property Number: 77200220061

Status: Excess

Reasons: Within 2000 ft. of flammable or explosive material, Secured Area, Extensive deterioration

Bldgs. 440, 441

Naval Weapons Station

Yorktown Co: VA 23691-

Landholding Agency: Navy

Property Number: 77200220062

Status: Excess

Reasons: Within 2000 ft. of flammable or explosive material, Secured Area, Extensive deterioration

Bldg. 508

Naval Weapons Station

Yorktown Co: VA 23691-

Landholding Agency: Navy

Property Number: 77200220063

Status: Excess

Reasons: Within 2000 ft. of flammable or explosive material, Secured Area, Extensive deterioration

Bldg. 510

Naval Weapons Station

Yorktown Co: VA 23691-

Landholding Agency: Navy

Property Number: 77200220064

Status: Excess

Reasons: Within 2000 ft. of flammable or explosive material, Secured Area, Extensive deterioration

Bldg. 605

Naval Weapons Station

Yorktown Co: VA 23691-

Landholding Agency: Navy

Property Number: 77200220065

Status: Excess

Reasons: Within 2000 ft. of flammable or explosive material, Secured Area

Bldg. 624

Naval Weapons Station

Yorktown Co: VA 23691-

Landholding Agency: Navy

Property Number: 77200220066

Status: Excess

Reasons: Within 2000 ft. of flammable or explosive material, Secured Area, Extensive deterioration

Bldg. 688

Naval Weapons Station

Yorktown Co: VA 23691-

Landholding Agency: Navy

Property Number: 77200220067

Status: Excess

Reasons: Within 2000 ft. of flammable or explosive material, Secured Area

Bldgs. 1271, 1272, 1273

Naval Weapons Station

Yorktown Co: VA 23691-

Landholding Agency: Navy

Property Number: 77200220068

Status: Excess

Reason: Secured Area

Bldgs. 1465, 1466

Naval Weapons Station

Yorktown Co: VA 23691-

Landholding Agency: Navy

Property Number: 77200220069

Status: Excess

Reasons: Within 2000 ft. of flammable or explosive material, Secured Area

Bldgs. 1467, 1468, 1469

Naval Weapons Station

Yorktown Co: VA 23691-

Landholding Agency: Navy

Property Number: 77200220070

Status: Excess

Reasons: Within 2000 ft. of flammable or explosive material, Secured Area

Bldg. 1799

Naval Weapons Station

Yorktown Co: VA 23691-

Landholding Agency: Navy

Property Number: 77200220071

Status: Excess

Reasons: Within 2000 ft. of flammable or explosive material, Secured Area

Bldg. CAD40

Naval Weapons Station

Yorktown Co: VA 23691-

Landholding Agency: Navy

Property Number: 77200220084

Status: Excess

Reason: Secured Area

Bldg. CAD41

Naval Weapons Station

Yorktown Co: VA 23691-

Landholding Agency: Navy

Property Number: 77200220085

Status: Excess

Reason: Secured Area

Bldg. CAD479

Naval Weapons Station

Yorktown Co: VA 23691-

Landholding Agency: Navy

Property Number: 77200220086

Status: Excess

Reason: Secured Area

Pier R-1

Naval Weapons Station

Yorktown Co: VA 23691-

Landholding Agency: Navy

Property Number: 77200240053

Status: Unutilized

Reasons: Within 2000 ft. of flammable or explosive material, Secured Area

Bldg. 709

Naval Weapons Station

Yorktown Co: VA 23691-

Landholding Agency: Navy

Property Number: 77200240054

Status: Unutilized

Reasons: Within 2000 ft. of flammable or explosive material, Secured Area

Bldg. 1443/adj. bldg.

Norfolk Naval Shipyard

Portsmouth Co: VA 23704-

Landholding Agency: Navy

Property Number: 77200320018

Status: Excess

Reason: Extensive deterioration

Bldg. 164

Naval Support Activity

Northwest Annex

Chesapeake Co: VA

Landholding Agency: Navy

Property Number: 77200330057

Status: Excess

Reason: Secured Area

Washington

Goat Island Quarry

Skagit Co: WA

Landholding Agency: GSA

Property Number: 54200230005

Status: Excess

Reason: not accessible

GSA Number: 9-D-WA-1201

Federal Building

104 W. Magnolia

Bellingham Co: WA 98224-

Landholding Agency: GSA

Property Number: 54200310021

Status: Surplus

Reason: Within 2000 ft. of flammable or explosive material

GSA Number: 9-G-WA-1203

Bldg. 6661

Naval Submarine Base, Bangor

Silverdale Co: Kitsap WA 98315-6499

Landholding Agency: Navy

Property Number: 77199730039

Status: Unutilized

Reason: Secured Area

Bldg. 604

Manchester Fuel Department

Port Orchard WA 98366-

Landholding Agency: Navy

Property Number: 77199810170

Status: Excess

Reasons: Within 2000 ft. of flammable or explosive material, Secured Area

Bldg. 288

Fleet Industrial Supply Center

Bremerton WA 98314-5100

Landholding Agency: Navy

Property Number: 77199810171

Status: Excess

Reasons: Within 2000 ft. of flammable or explosive material, Secured Area

Bldg. 47

Naval Radio Station T Jim Creek

Arlington Co: Snohomish WA 98223-

Landholding Agency: Navy

Property Number: 77199820056

Status: Unutilized

Reasons: Secured Area, Extensive deterioration

Bldg. 48

Naval Radio Station T Jim Creek

Arlington Co: Snohomish WA 98223-

Landholding Agency: Navy

Property Number: 77199820057

Status: Unutilized

Reasons: Secured Area, Extensive deterioration

Coal Handling Facilities

Puget Sound Naval Shipyard #908, 919, 926-929

Bremerton WA 98314-5000

Landholding Agency: Navy

Property Number: 77199820142

Status: Excess

Reason: Within 2000 ft. of flammable or explosive material

Bldg. 193

Puget Sound Naval Shipyard

Bremerton WA 98310-

Landholding Agency: Navy

Property Number: 77199820143

Status: Unutilized

Reason: contamination

Bldg. 202

Naval Air Station Whidbey Island

Oak Harbor WA 98278-

Landholding Agency: Navy

Property Number: 77199830019

Status: Excess

Reason: Within 2000 ft. of flammable or explosive material

Bldg. 2649

Naval Air Station Whidbey Island

Oak Harbor WA 98278-

Landholding Agency: Navy

Property Number: 77199830020

Status: Excess

Reasons: Within 2000 ft. of flammable or explosive material, Extensive deterioration

Bldgs. 35, 36

Naval Radio Station T Jim Creek

Arlington Co: Snohomish WA 98223-

Landholding Agency: Navy

Property Number: 77199830076

Status: Unutilized

Reason: Extensive deterioration

Bldg. 918

Puget Sound Naval Shipyard

Bremerton WA 98314-5000

Landholding Agency: Navy

Property Number: 77199840020

Status: Unutilized

Reasons: Within 2000 ft. of flammable or explosive material, Secured Area

Bldg. 894

Naval Undersea Warfare Center

Keyport Co: Kitsap WA 98345-7610

Landholding Agency: Navy

Property Number: 77199920085

Status: Underutilized

Reasons: Within 2000 ft. of flammable or explosive material, Secured Area

Bldg. 73

Naval Undersea Warfare Center

Keyport Co: Kitsap WA 98345-

Landholding Agency: Navy

Property Number: 77199920152

Status: Underutilized

Reasons: Within 2000 ft. of flammable or explosive material, Secured Area

Bldg. 210A

Naval Station Bremerton

Bremerton Co: WA 98314-

Landholding Agency: Navy

Property Number: 77199930021

Status: Excess

Reasons: Within 2000 ft. of flammable or explosive material, Secured Area

Bldg. 511

Naval Station Bremerton

Bremerton Co: WA 98314-

Landholding Agency: Navy

Property Number: 77199930022

Status: Excess

Reasons: Within 2000 ft. of flammable or explosive material, Secured Area, Extensive deterioration

Bldg. 527

Naval Station Bremerton

Bremerton Co: WA 98314-

Landholding Agency: Navy

Property Number: 77199930023

Status: Excess

Reasons: Within 2000 ft. of flammable or explosive material, Secured Area

Bldg. 97

Naval Air Station

Whidbey Island

Oak Harbor Co: WA 98278-

Landholding Agency: Navy

Property Number: 77199930040

Status: Unutilized

Reason: Extensive deterioration

Bldg. 331

Naval Undersea Warfare Center

Keyport Co: Kitsap WA 98345-

Landholding Agency: Navy

Property Number: 77199930041

Status: Unutilized

Reasons: Secured Area, Extensive deterioration

Bldg. 786

Naval Undersea Warfare Center

Keyport Co: Kitsap WA 98345-

Landholding Agency: Navy

Property Number: 77199930042

Status: Unutilized

Reasons: Secured Area, Extensive deterioration

Bldg. 15

Naval Air Station, Whidbey Island

Oak Harbor Co: WA 98278-3500

Landholding Agency: Navy

Property Number: 77199930071

Status: Unutilized

Reason: Extensive deterioration

Bldg. 119

Naval Air Station, Whidbey Island

Oak Harbor Co: WA 98278-3500

Landholding Agency: Navy

Property Number: 77199930072

Status: Unutilized

Reason: Extensive deterioration

Bldg. 853

Naval Air Station, Whidbey Island

Oak Harbor Co: WA 98278-3500

Landholding Agency: Navy

Property Number: 77199930073

Status: Unutilized

Reason: Extensive deterioration

Bldg. 854

Naval Air Station, Whidbey Island

Oak Harbor Co: WA 98278-3500

Landholding Agency: Navy

Property Number: 77199930074

Status: Unutilized

Reason: Extensive deterioration

Bldg. 166

Puget Sound Naval Shipyard

Bremerton Co: WA 98314-5000

Landholding Agency: Navy

Property Number: 77199930101

Status: Excess

Reason: Secured Area

Bldg. 287

Puget Sound Naval Shipyard

Bremerton Co: WA 98314-5000

Landholding Agency: Navy

Property Number: 77199930102

Status: Excess

Reason: Secured Area

Bldg. 418

Puget Sound Naval Shipyard

Bremerton Co: WA 98314-5000

Landholding Agency: Navy

Property Number: 77199930103

Status: Excess

Reason: Secured Area

Bldg. 858

Puget Sound Naval Shipyard

Bremerton Co: WA 98314-5000

Landholding Agency: Navy

Property Number: 77199930104

Status: Excess

Reason: Secured Area

Bldg. 17

Naval Radio Station

Jim Creek

Arlington Co: WA 98223-8599

Landholding Agency: Navy

Property Number: 77200010073

Status: Excess

Reasons: Secured Area, Extensive deterioration

Bldg. 47

Naval Undersea Warfare

Keyport Co: Kitsap WA 98345-7610

Landholding Agency: Navy

Property Number: 77200010074

Status: Unutilized

Reasons: Within 2000 ft. of flammable or explosive material, Secured Area

Whitney Point Complex

Brinnon Co: Jefferson WA 98320-9899

Landholding Agency: Navy

Property Number: 77200010102

Status: Excess

Reason: Extensive deterioration

Bldg. 398

Naval Station

Bremerton Co: WA 98314-5000

Landholding Agency: Navy

Property Number: 77200020038

Status: Unutilized

Reasons: Within 2000 ft. of flammable or explosive material, Secured Area

Bldg. 976

Naval Station

Bremerton Co: WA 98314-5020

Landholding Agency: Navy

Property Number: 77200020039

Status: Unutilized

Reasons: Within 2000 ft. of flammable or explosive material, Secured Area, Extensive deterioration

8 Bldgs.

Naval Station

902, 903, 905, 907, 909-911, 915

Bremerton Co: WA 98314-5020

Landholding Agency: Navy

Property Number: 77200020040

Status: Unutilized

Reasons: Within 2000 ft. of flammable or explosive material, Secured Area

Bldg. 109

Naval Weapons Station

Port Hadlock Co: Jefferson WA 98339-9723

Landholding Agency: Navy

Property Number: 77200030020

Status: Unutilized

Reasons: Within 2000 ft. of flammable or explosive material, Secured Area, Extensive deterioration

Bldg. 157

Naval Weapons Station

Port Hadlock Co: Jefferson WA 98339-9723

Landholding Agency: Navy

Property Number: 77200030021

Status: Unutilized

Reasons: Within 2000 ft. of flammable or explosive material, Secured Area, Extensive deterioration

Bldg. 161

Naval Weapons Station

Port Hadlock Co: Jefferson WA 98339-9723

Landholding Agency: Navy

Property Number: 77200030022

Status: Unutilized

Reasons: Within 2000 ft. of flammable or explosive material, Secured Area, Extensive deterioration

Bldg. 170

Naval Weapons Station

Port Hadlock Co: Jefferson WA 98339-9723

Landholding Agency: Navy

Property Number: 77200030023

Status: Unutilized

Reasons: Within 2000 ft. of flammable or explosive material, Secured Area, Extensive deterioration

Bldg. 262

Naval Weapons Station

Port Hadlock Co: Jefferson WA 98339-9723

Landholding Agency: Navy

Property Number: 77200030024

Status: Unutilized

Reasons: Within 2000 ft. of flammable or explosive material, Secured Area, Extensive deterioration

Bldg. 482

Puget Sound Naval Shipyard

Bremerton Co: WA 98314-5000

Landholding Agency: Navy

Property Number: 77200040019

Status: Excess

Reason: Secured Area

Bldg. 529

Puget Sound Naval Shipyard

Bremerton Co: WA 98314-5000

Landholding Agency: Navy

Property Number: 77200040020

Status: Excess

Reason: Secured Area

Bldg. 133

Naval Undersea Warfare Station

Keyport Co: Kitsap WA 98345-7610

Landholding Agency: Navy

Property Number: 77200120133

Status: Unutilized

Reasons: Within 2000 ft. of flammable or explosive material, Secured Area, Extensive deterioration

Bldg. 2511

NAS Whidbey Island

Oak Harbor Co: Island WA 98278-3500

Landholding Agency: Navy

Property Number: 77200120157

Status: Excess

Reason: Secured Area

Bldg. 98

Naval Air Station

Oak Harbor Co: Whidbey Island WA 98278-

Landholding Agency: Navy

Property Number: 77200220022

Status: Unutilized

Reasons: Within 2000 ft. of flammable or explosive material, Floodway, Extensive deterioration

Bldg. 2667

Naval Air Station

Oak Harbor Co: Whidbey Island WA 98278-

Landholding Agency: Navy

Property Number: 77200220023

Status: Unutilized

Reasons: Within 2000 ft. of flammable or explosive material, Floodway, Extensive deterioration

Bldg. 899

Puget Sound Naval Shipyard

Bremerton Co: WA 98314-5000

Landholding Agency: Navy

Property Number: 77200230032

Status: Unutilized

Reasons: Within 2000 ft. of flammable or explosive material, Secured Area

Bldgs. 935, 936, 956, 957

Naval Station

Bremerton Co: WA 98314-5020

Landholding Agency: Navy

Property Number: 77200230041

Status: Excess

Reasons: Within 2000 ft. of flammable or explosive material, Secured Area

Bldg. 1990

Naval Station

Everett Co: Snohomish WA 98207-5001

Landholding Agency: Navy

Property Number: 77200230044

Status: Excess

Reasons: Secured Area, Extensive deterioration

Bldg. 530

Naval Station

Bremerton Co: WA 98314-5020

Landholding Agency: Navy

Property Number: 77200230058

Status: Excess

Reasons: Within 2000 ft. of flammable or explosive material, Secured Area

Bldg. 878

Naval Station

Bremerton Co: WA 98314-5020

Landholding Agency: Navy

Property Number: 77200230059

Status: Excess

Reasons: Within 2000 ft. of flammable or explosive material

Secured Area

Bldg. 904

Naval Station

Fort Lawton

Everett Co: Snohomish WA 98207-5001

Landholding Agency: Navy

Property Number: 77200230060

Status: Excess

Reason: Extensive deterioration

Bldg. 66

Naval Magazine

Indian Island

Port Hadlock Co: Jefferson WA 98339-9723

Landholding Agency: Navy

Property Number: 77200240032

Status: Unutilized

Reasons: Within 2000 ft. of flammable or explosive material

Secured Area, Extensive deterioration

Bldg. 67

Naval Magazine

Indian Island

Port Hadlock Co: Jefferson WA 98339-9723

Landholding Agency: Navy

Property Number: 77200240033

Status: Unutilized

Reasons: Within 2000 ft. of flammable or explosive material, Secured Area, Extensive deterioration

Bldg. 180

Naval Magazine

Indian Island

Port Hadlock Co: Jefferson WA 98339-9723

Landholding Agency: Navy

Property Number: 77200240034

Status: Unutilized

Reasons: Within 2000 ft. of flammable or explosive material, Secured Area, Extensive deterioration

Bldg. 182

Naval Magazine

Indian Island

Port Hadlock Co: Jefferson WA 98339-9723

Landholding Agency: Navy

Property Number: 77200240035

Status: Unutilized

Reasons: Within 2000 ft. of flammable or explosive material, Secured Area, Extensive deterioration

Bldg. 214

Naval Magazine Indian Island

Port Hadlock Co: Jefferson WA 98339-9723

Landholding Agency: Navy

Property Number: 77200240036

Status: Unutilized

Reasons: Within 2000 ft. of flammable or explosive material, Secured Area, Extensive deterioration

Bldg. 273

Naval Magazine

Indian Island

Port Hadlock Co: Jefferson WA 98339-9723

Landholding Agency: Navy

Property Number: 77200240037

Status: Unutilized

Reasons: Within 2000 ft. of flammable or explosive material, Secured Area, Extensive deterioration

Bldg. 937

Naval Undersea Warfare

Keyport Co: Kitsap WA 98345-7610

Landholding Agency: Navy

Property Number: 77200240038

Status: Unutilized

Reasons: Within 2000 ft. of flammable or explosive material, Secured Area

Bldg. 2801A

Naval Undersea Warfare

Keyport Co: Kitsap WA 98345-7610

Landholding Agency: Navy

Property Number: 77200240039

Status: Unutilized

Reasons: Within 2000 ft. of flammable or explosive material, Secured Area

Bldg. 7634

Naval Undersea Warfare

Keyport Co: Kitsap WA 98345-7610

Landholding Agency: Navy

Property Number: 77200240040

Status: Unutilized

Reasons: Within 2000 ft. of flammable or explosive material, Secured Area

Wyoming

Bldg. 360

F. E. Warren AFB

Cheyenne Co: Laramie WY 82005-5000

Landholding Agency: Air Force

Property Number: 18200240013

Status: Unutilized

Reasons: Secured Area, Extensive deterioration

Land (by State)

California

Space Surv. Field Station

Portion/Off Heritage Road

San Diego CA 90012-1408

Landholding Agency: Navy

Property Number: 77199820049

Status: Excess

Reason: Within 2000 ft. of flammable or explosive material

Colorado

Landfill

48th & Holly Streets

Commerce Co: Adams CO 80022-

Landholding Agency: GSA

Property Number: 54200220006

Status: Surplus

Reasons: Within 2000 ft. of flammable or explosive material, contamination

GSA Number: 7-Z-CO-0647

Florida

3 parcels

U.S. Customs Svc Natl Law

Enforcement Comm Ctr

Orlando Co: Orange FL 32803-

Landholding Agency: GSA

Property Number: 54200310015

Status: Excess

Reason: landlocked

GSA Number: 4-T-FL-1209-1A

Michigan

Port/EPA Large Lakes Rsch Lab

Grosse Ile Twp Co: Wayne MI

Landholding Agency: GSA

Property Number: 54199720022

Status: Excess

Reason: Within airport runway clear zone

GSA Number: 1-Z-MI-554-A

5.43 acres

Drummond Island

Drummond Tnshp Co: Cheppawa MI

Landholding Agency: GSA

Property Number: 54200240009

Status: Excess

Reason: not accessible by road

GSA Number: 1-U-MI-449A

Land/USCG

1380 Beach Street

Muskegon Co: MI 49441-

Landholding Agency: GSA

Property Number: 54200320014

Status: Excess

Reason: Within 2000 ft. of flammable or explosive material

GSA Number: 1-U-MI-0610

Minnesota

Parcel A

Twin Cities Army Ammunition Plant

Arden Hills Co: MN 55112-3938

Landholding Agency: GSA

Property Number: 54200240014

Status: Excess

Reason: Within 2000 ft. of flammable or explosive material

GSA Number: 1-D-MN-0578A

New Jersey

2.1 acres

Naval Weapons Station

Earle Co: NJ

Landholding Agency: Navy

Property Number: 77200320016

Status: Excess

Reason: Secured Area

North Carolina

0.85 parcel of land

Marine Corps Air Station, Cherry Point

Havelock Co: Craven NC 28533-

Landholding Agency: Navy

Property Number: 77199740074

Status: Unutilized

Reason: Secured Area

5 (0.91) Parcels

Marine Corps Base

Camp Lejeune Co: NC

Landholding Agency: Navy

Property Number: 77200210080

Status: Underutilized

Reason: Secured Area

3 (0.91) Parcels

Marine Corps Base

Greater Sandy Run

Camp Lejeune Co: NC

Landholding Agency: Navy

Property Number: 77200210081

Status: Underutilized

Reasons: Within airport runway clear zone, Secured Area

Ohio

Lewis Research Center

Cedar Point Road

Cleveland Co: Cuyahoga OH 44135-

Landholding Agency: GSA

Property Number: 54199610007

Status: Excess

Reasons: Within 2000 ft. of flammable or explosive material, Within airport runway clear zone

GSA Number: 2-Z-OH-598-I

Puerto Rico

Parcel 2E

Naval Security Group

Sabana Seca Co: Toa Baja PR

Landholding Agency: GSA

Property Number: 54200210024

Status: Excess

Reason: Within 2000 ft. of flammable or explosive material

GSA Number: 1-N-PR-496

Parcel 2R

Naval Security Group

Sabana Seca Co: Toa Baja PR

Landholding Agency: GSA

Property Number: 54200210025

Status: Excess

Reason: Within 2000 ft. of flammable or explosive material

GSA Number: 1-N-PR-494

Parcel 2W

Naval Security Group

Sabana Seca Co: Toa Baja PR

Landholding Agency: GSA

Property Number: 54200210026

Status: Excess

Reason: Within 2000 ft. of flammable or explosive material

GSA Number: 1-N-PR-495

Site 1

Naval Station Roosevelt Roads

Ceiba Co: PR 00735

Landholding Agency: Navy

Property Number: 77200320029

Status: Unutilized

Reason: Secured Area

Site 2

Naval Station Roosevelt Roads

Ceiba Co: PR 00735

Landholding Agency: Navy

Property Number: 77200320030

Status: Unutilized

Reason: Secured Area

Site 3

Naval Station Roosevelt Roads

Ceiba Co: PR 00735-

Landholding Agency: Navy

Property Number: 77200320031

Status: Unutilized

Reason: Secured Area

Site 4

Naval Station Roosevelt Roads

Ceiba Co: PR 00735-

Landholding Agency: Navy

Property Number: 77200320032

Status: Unutilized

Reason: Secured Area

Washington

Hanford Training Site

Horn Rapids Rd.

Benton Co: WA

Landholding Agency: GSA

Property Number: 54200210012

Status: Excess

Reason: Within 2000 ft. of flammable or explosive material

GSA Number: 9-B-WA1198

Land-Port Hadlock Detachment

Naval Ordnance Center Pacific Division

Port Hadlock Co: Jefferson WA 98339-

Landholding Agency: Navy

Property Number: 77199640019

Status: Underutilized

Reasons: Within 2000 ft. of flammable or explosive material, Secured Area

[FR Doc. 03-23024 Filed 9-11-03; 8:45 am]

BILLING CODE 4210-29-P